DEPARTMENT OF THE TREASURY

Customs Service

Distribution of Continued Dumping and Subsidy Offset to Affected Domestic Producers

AGENCY: Customs Service, Department of the Treasury.

ACTION: Notice of intent to distribute offset for Fiscal Year 2002.

SUMMARY: Pursuant to the Continued Dumping and Subsidy Offset Act of 2000, this document is Customs notice of intention to distribute assessed antidumping or countervailing duties (known as the continued dumping and subsidy offset) for Fiscal Year 2002 in connection with antidumping duty orders or findings or countervailing duty orders. This document sets forth the list of individual antidumping duty orders or findings and countervailing duty orders, together with the affected domestic producers associated with each order or finding who are potentially eligible to receive a distribution. This document also provides the instructions for affected domestic producers to file written certifications to claim a distribution in relation to the listed orders or findings.

DATES: Written certifications to obtain a continued dumping and subsidy offset under a particular order or finding must be received by September 3, 2002.

ADDRESSES: Written certifications should be addressed to: Assistant Commissioner, Office of Regulations and Rulings, U.S. Customs Service, 1300 Pennsylvania Avenue, NW., Washington, DC 20229 (ATTN: Jeffrey J. Laxague).

FOR FURTHER INFORMATION CONTACT: Jeffrey J. Laxague, Office of Regulations and Rulings, (202-572-8876).

SUPPLEMENTARY INFORMATION:

Background

The Continued Dumping and Subsidy Offset Act of 2000 (“CDSOA”) was enacted on October 28, 2000, as part of the Agriculture, Rural Development, Food and Drug Administration, and Related Agencies Appropriations Act, 2001 (“Act”). The provisions of the CDSOA are contained in Title X (sections 1001-1003) of the Act.

The CDSOA, in section 1003 of the Act, amended Title VII of the Tariff Act of 1930, by adding a new section 754 (codified at 19 U.S.C. 1675c) in order to provide that assessed duties received pursuant to a countervailing duty order, an antidumping duty order, or an antidumping duty finding under the Antidumping Act of 1921, must be distributed to affected domestic producers for certain qualifying expenditures that these producers incur after the issuance of such an order or finding. The term “affected domestic producer” means any manufacturer, producer, farmer, rancher or worker representative (including associations of such persons) that—

(A) Was a petitioner or interested party in support of a petition with respect to which an antidumping order, a finding under the Antidumping Act of 1921, or a countervailing duty order has been entered, and

(B) Remains in operation.

The distribution that these parties may receive is known as the continued dumping and subsidy offset.

List of Orders or Findings and Affected Domestic Producers

It is the responsibility of the U.S. International Trade Commission (USITC) to ascertain and timely forward to Customs a list of the affected domestic producers that are potentially eligible to receive an offset in connection with an order or finding.

To this end, it is noted that the USITC has supplied Customs with the list of individual antidumping and countervailing duty cases, and the affected domestic producers associated with each case that are potentially eligible to receive an offset. This list appears at the end of this document.

Customs Regulations Implementing the CDSOA

It is noted that Customs published a final rule in the Federal Register (66 FR 48546) on September 21, 2001, as T.D. 01-68, which was effective as of that date, in order to implement the CDSOA. The final rule added a new subpart F to part 159 of the Customs Regulations (19 CFR part 159, subpart F (§§ 159.61—159.64)).

Notice of Intent To Distribute Offset

This document announces Customs intention to distribute to affected domestic producers the assessed antidumping or countervailing duties that are available for distribution in Fiscal Year 2002 in connection with those antidumping duty orders or findings or countervailing duty orders that are listed in this document. Section 159.62(a), Customs Regulations (19 CFR 159.62(a)), provides that Customs will publish such a notice of intention to distribute assessed duties at least 90 days before the end of a fiscal year.

Certifications; Submission and Content

To obtain a distribution of the offset under a given order or finding, an affected domestic producer must submit a certification to Customs, indicating that the producer desires to receive a distribution.

As required by § 159.62(b), Customs Regulations (19 CFR 159.62(b)), this notice provides the case name and number of the order or finding concerned, as well as the specific instructions for filing a certification under § 159.63 to claim a distribution. However, although § 159.62(b) also provides that the dollar amounts subject to distribution that were contained in the special account for each listed order or finding as of June 1, 2002, would appear in this notice, because these dollar amounts were not available in time for inclusion in this publication, these amounts will instead be posted shortly on the Customs Web site (www.customs.gov), for purposes of enabling affected domestic producers to determine whether it would be worthwhile to file a certification in a given case.

A successor to a company appearing on the list of affected domestic producers in this notice, or a member company of an association that appears on the list of affected domestic producers in this notice, where the member company does not appear on the list, should also consult § 159.61(b)(1)(i) or 159.61(b)(1)(ii), Customs Regulations, respectively (19 CFR 159.61(b)(1)(i) or 159.61(b)(1)(ii)), concerning whether and, if so, the additional procedures under which such party may file a certification to claim an offset.

Specifically, to obtain a distribution of the offset under a given order or finding, each affected domestic producer must timely submit a certification, in triplicate, to the Acting Assistant Commissioner, Office of Regulations and Rulings, Headquarters, containing the required information detailed below as to the eligibility of the producer to receive the requested distribution and the total amount of the distribution that the producer is claiming. The certification must enumerate the qualifying expenditures incurred by the domestic producer since the issuance of an order or finding and it must demonstrate that the domestic producer is eligible to receive a distribution as an affected domestic producer.

As provided in § 159.63(b), Customs Regulations (19 CFR 159.63(b)), certifications to obtain a distribution of an offset must be received by Customs 60 days after the date of publication of the notice of intent in the Federal Register.

While there is no established format for a certification, the certification must contain the following information:

1. The date of this Federal Register notice;

2. The Commerce case number;

3. The case name (Product/country);

4. The name of the domestic producer and any name qualifier, if applicable (for example, any other name under which the domestic producer does business or is also known);

5. The address of the domestic producer (if a post office box, the secondary street address must also appear), including, if applicable, a specific room number or department;

6. The Internal Revenue Service (IRS) number (with suffix) of the domestic producer, employer identification number, or social security number, as applicable;

7. The specific business organization of the domestic producer (corporation, partnership, sole proprietorship);

8. The name(s) of any individual(s) designated by the domestic producer as the contact person(s) concerning the certification, together with the phone number(s) and/or facsimile transmission number(s) and electronic mail (email) address(es) for the person(s);

9. The total dollar amount claimed;

10. The dollar amount claimed by category, as described in the section below entitled “Amount Claimed for Distribution”;

11. A statement of eligibility, as described in the section below entitled “Eligibility to Receive Distribution”; and

12. A signature by a corporate officer legally authorized to bind the producer.

Qualifying Expenditures Which May Be Claimed for Distribution

Qualifying expenditures which may be offset by a distribution of assessed antidumping and countervailing duties encompass those expenditures that are incurred after the issuance of an antidumping duty order or finding or a countervailing duty order, and prior to its termination, provided that such expenditures fall within any of the following categories: (1) Manufacturing facilities; (2) Equipment; (3) Research and development; (4) Personnel training; (5) Acquisition of technology; (6) Health care benefits for employees paid for by the employer; (7) Pension benefits for employees paid for by the employer; (8) Environmental equipment, training, or technology; (9) Acquisition of raw materials and other inputs; and (10) Working capital or other funds needed to maintain production.

Amount Claimed for Distribution

In calculating the amount of the distribution being claimed as an offset, the certification must enumerate the following: (1) The total amount of any qualifying expenditures currently and previously certified by the domestic producer, and the amount certified by category; (2) The total amount of those expenditures which have been the subject of any prior distribution under 19 U.S.C. 1675c; and (3) The net amount for new and remaining qualifying expenditures being claimed in the current certification (the total amount currently and previously certified as noted in item “(1)” above minus the total amount that was the subject of any prior distribution as noted in item “(2)” above) (§ 159.63(b)(2)(i)-(b)(2)(iii), Customs Regulations (19 CFR 159.63(b)(2)(i)-(b)(2)(iii))).

Additionally, these qualifying expenditures must be related to the production of the same product that is the subject of the order or finding, with the exception of expenses incurred by associations which must relate to a specific case (§ 159.61(c), Customs Regulations (19 CFR 159.61(c))).

Eligibility To Receive Distribution

As noted, the certification must contain a statement that the domestic producer desires to receive a distribution and is eligible to receive the distribution as an affected domestic producer. Also, the domestic producer must affirm that the net amount certified for distribution does not encompass any qualifying expenditures for which distribution has previously been made (§ 159.63(b)(3)(i), Customs Regulations (19 CFR 159.63(b)(3)(i))).

Furthermore, where a party is listed as an affected domestic producer on more than one order or finding covering the same product and files a separate certification for each order or finding using the same qualifying expenditures as the basis for distribution in each case, each certification must list all the other orders or findings where the producer is claiming the same qualifying expenditures (§ 159.63(b)(3)(ii), Customs Regulations (19 CFR 159.63(b)(3)(ii))).

Moreover, as required by 19 U.S.C. 1675c(b)(1) and § 159.63(b)(3)(iii), Customs Regulations (19 CFR 159.63(b)(3)(iii)), the statement must include information as to whether the domestic producer remains in operation and continues to produce the product covered by the particular order or finding under which the distribution is sought. If a domestic producer is no longer in operation, or no longer produces the product covered by the order or finding, the producer would not be considered an affected domestic producer entitled to receive a distribution.

In addition, as required by 19 U.S.C. 1675c(b)(5) and § 159.63(b)(3)(iii), the domestic producer must state whether it has been acquired by a company or business that is related to a company that opposed the antidumping or countervailing duty investigation that resulted in the order or finding under which the distribution is sought. If a domestic producer has been so acquired, the producer would again not be considered an affected domestic producer entitled to receive a distribution. The records must be those that are normally kept in the ordinary course of business; these records must support each qualifying expenditure enumerated in the certification; and they must support how the qualifying expenditures are determined to be related to the production of the product covered by the order or finding.

Disclosure of Information in Certifications; Acceptance by Producer

The name of the affected domestic producer, the total dollar amount claimed by that party on the certification, as well as the total dollar amount that Customs actually disburses to that company as an offset, will be available for disclosure to the public, as specified in § 159.63(e), Customs Regulations (19 CFR 159.63(e)). To this extent, the submission of the certification is construed as an understanding and acceptance on the part of the domestic producer that this information will be disclosed to the public. Alternatively, a statement in a certification that this information is proprietary and exempt from disclosure will result in Customs rejection of the certification.

List of Orders or Findings and Related Domestic Producers

The list of individual antidumping duty orders or findings and countervailing duty orders is set forth below, together with the affected domestic producers associated with each order or finding that are potentially eligible to receive an offset.

The certification must be executed and dated by a party legally authorized to bind the domestic producer and it must state that the information contained in the certification is true and accurate to the best of the certifier's knowledge and belief under penalty of law, and that the domestic producer has records to support the qualifying expenditures being claimed (see section below entitled “Verification of Certification”).

Review and Correction of Certification

A certification that is submitted in response to this notice of distribution may be reviewed before acceptance to ensure that all informational requirements are complied with and that any amounts set forth in the certification for qualifying expenditures, including the amount claimed for distribution, appear to be correct. A certification that is found to be materially incorrect or incomplete will be returned to the domestic producer, as provided in § 159.63(c), Customs Regulations (19 CFR 159.63(c)). It is the sole responsibility of the domestic producer to ensure that the certification is correct, complete and satisfactory so as to demonstrate the entitlement of the domestic producer to the distribution requested. Failure to ensure that the certification is correct, complete and satisfactory will result in the domestic producer not receiving a distribution.

Verification of Certification

Certifications are subject to Customs verification. Because of this, parties are required to maintain records supporting their claims for a period of three years after the filing of the certification (see § 159.63(d), Customs Regulations (19 CFR 159.63(d))).

Commerce Case No. | Commission Case No. | Product/country | Petitioners/supporters
A-588-028 | AA1921-111 | Roller chain/Japan | American Chain Association; Acme Chain Division, North American Rockwell; Atlas Chain & Precision Products; Diamond Chain; Link-Belt Chain Division, FMC; Morse Chain Division, Borg Warner; Rex Chainbelt.
A-401-040 | AA1921-114 | Stainless steel plate/Sweden | Jessop Steel.
A-588-041 | AA1921-115 | Synthetic methionine/Japan | Monsanto.
A-588-046 | AA1921-129 | Polychloroprene rubber/Japan | E.I. du Pont de Nemours.
A-122-047 | AA1921-127 | Elemental sulphur/Canada | Duval.
A-588-056 | AA1921-162 | Melamine/Japan | Melamine Chemical.
A-475-059 | AA1921-167 | Pressure-sensitive plastic tape/Italy | Minnesota Mining & Manufacturing.
A-588-068 | AA1921-188 | Prestressed concrete steel wire strand/Japan | American Spring Wire; Armco Steel; Bethlehem Steel; CF&I Steel; Florida Wire & Cable.
C-408-046 | 104-TAA-7 | Sugar/EU | No petition at the Commission; Commerce service list identifies: U.S. Beet Sugar Association; Florida Sugar Marketing and Terminal Association; American Sugar Cane League; American Sugarbeet Growers Association; Florida Sugar Cane League; Rio Grande Valley Sugar Growers Association; Michigan Sugar; Amstar Sugar; Sugar Cane Growers Cooperative of Florida; Alexander & Baldwin; Michigan Farm Bureau; H&R Brokerage; Talisman Sugar; American Farm Bureau Federation; Leach Farms; A.J. Yates; Hawaiian Agricultural Research Center; United States Beet Sugar Association; United States Cane Sugar Refiners' Association.
A-423-077 | AA1921-198 | Sugar/Belgium | Florida Sugar Marketing and Terminal Association.
A-427-078 | AA1921-199 | Sugar/France | Florida Sugar Marketing and Terminal Association.
A-428-082 | AA1921-200 | Sugar/Germany | Florida Sugar Marketing and Terminal Association.
A-122-085 | 731-TA-3 | Sugar and syrups/Canada | Amstar Sugar.
A-427-098 | 731-TA-25 | Anhydrous sodium metasilicate/France | PQ.
A-427-001 | 731-TA-44 | Sorbitol/France | Lonza; Pfizer.
A-570-007 | 731-TA-149 | Barium chloride/China | Chemical Products.
A-570-101 | 731-TA-101 | Greige polyester cotton printcloth/China | Alice Manufacturing; Clinton Mills; Dan River; Greenwood Mills; Hamrick Mills; M. Lowenstein; Mayfair Mills; Mount Vernon Mills.
C-357-004 | 701-TA-A | Carbon steel wire rod/Argentina | Atlantic Steel; Continental Steel; Georgetown Steel; North Star Steel; Raritan River Steel.
A-357-007 | 731-TA-157 | Carbon steel wire rod/Argentina | Atlantic Steel; Continental Steel; Georgetown Steel; North Star Steel; Raritan River Steel.
A-469-007 | 731-TA-126 | Potassium permanganate/Spain | Carus Chemical.
A-570-001 | 731-TA-125 | Potassium permanganate/China | Carus Chemical.
A-570-002 | 731-TA-130 | Chloropicrin/China | LCP Chemicals & Plastics; Niklor Chemical.
C-533-063 | 303-TA-13 | Iron metal castings/India | Campbell Foundry; Le Baron Foundry; Municipal Castings; Neenah Foundry; Pinkerton Foundry; U.S. Foundry & Manufacturing; Vulcan Foundry.
A-122-503 | 731-TA-263 | Iron construction castings/Canada | Alhambra Foundry; Allegheny Foundry; Bingham & Taylor; Campbell Foundry; Charlotte Pipe & Foundry; Deeter Foundry; East Jordan Foundry; Le Baron Foundry; Municipal Castings; Neenah Foundry; Opelika Foundry; Pinkerton Foundry; Tyler Pipe; U.S. Foundry & Manufacturing; Vulcan Foundry.
A-351-503 | 731-TA-262 | Iron construction castings/Brazil | Alhambra Foundry; Allegheny Foundry; Bingham & Taylor; Campbell Foundry; Charlotte Pipe & Foundry; Deeter Foundry; East Jordan Foundry; Le Baron Foundry; Municipal Castings; Neenah Foundry; Opelika Foundry; Pinkerton Foundry; Tyler Pipe; U.S. Foundry & Manufacturing; Vulcan Foundry.
A-570-502 | 731-TA-265 | Iron construction castings/China | Alhambra Foundry; Allegheny Foundry; Bingham & Taylor; Campbell Foundry; Charlotte Pipe & Foundry; Deeter Foundry; East Jordan Foundry; Le Baron Foundry; Municipal Castings; Neenah Foundry; Opelika Foundry; Pinkerton Foundry; Tyler Pipe; U.S. Foundry & Manufacturing; Vulcan Foundry.
C-351-504 | 701-TA-249 | Heavy iron construction castings/Brazil | Alhambra Foundry; Allegheny Foundry; Bingham & Taylor; Campbell Foundry; Charlotte Pipe & Foundry; Deeter Foundry; East Jordan Foundry; Le Baron Foundry; Municipal Castings; Neenah Foundry; Opelika Foundry; Pinkerton Foundry; Tyler Pipe; U.S. Foundry & Manufacturing; Vulcan Foundry.
A-351-605 | 731-TA-326 | Frozen concentrated orange juice/Brazil | Florida Citrus Mutual.
A-570-825 | 731-TA-653 | Sebacic acid/China | Union Camp.
C-122-404 | 701-TA-224 | Live swine/Canada | National Pork Producers Council; Wilson Foods.
A-357-405 | 731-TA-208 | Barbed wire and barbless wire strand/Argentina | CF&I Steel; Davis Walker; Forbes Steel & Wire; Oklahoma Steel Wire.
A-570-501 | 731-TA-244 | Natural bristle paint brushes/China | Baltimore Brush; Bestt Liebco; Elder & Jenks; EZ Paintr; H&G Industries; Joseph Lieberman & Sons; Purdy; Rubberset; Thomas Paint Applicators; Wooster Brush.
A-570-003 | 731-TA-103 | Cotton shop towels/China | Milliken; Texel Industries; Wikit.
C-535-001 | 701-TA-202 | Cotton shop towels/Pakistan | Milliken.
C-333-401 | 701-TA-E | Cotton shop towels/Peru | No case at the Commission; Commerce service list identifies: Durafab; Kleen-Tex Industries; Pavis & Harcourt; Lewis Eckert Robb; Milliken.
A-538-802 | 731-TA-514 | Cotton shop towels/Bangladesh | Milliken.
A-570-504 | 731-TA-282 | Petroleum wax candles/China | Candle-Lite; Colonial Candle of Cape Cod; Lenox Candles; Lumi-Lite Candle; Meuch-Kreuzer Candle; National Candle Association; WNS.
A-588-045 | AA1921-124 | Steel wire rope/Japan | AMSTED Industries.
A-201-806 | 731-TA-547 | Carbon steel wire rope/Mexico | Bridon American; Macwhyte; Paulsen Wire Rope; The Rochester Corporation; Williamsport; Wire-rope Works; Wire Rope Corporation of America; United Automobile, Aerospace and Agricultural Implement Workers (Local 960).
A-580-811 | 731-TA-546 | Carbon steel wire rope/Korea | Bridon American; Macwhyte; Paulsen Wire Rope; The Rochester Corporation; Williamsport; Wire-rope Works; Wire Rope Corporation of America; United Automobile, Aerospace and Agricultural Implement Workers (Local 960).
A-351-505 | 731-TA-278 | Malleable cast iron pipe fittings/Brazil | Stanley G. Flagg; Grinnell; Stockham Valves & Fittings; U-Brand; Ward Manufacturing.
A-580-507 | 731-TA-279 | Malleable cast iron pipe fittings/Korea | Stanley G. Flagg; Grinnell; Stockham Valves & Fittings; U-Brand; Ward Manufacturing.
A-583-507 | 731-TA-280 | Malleable cast iron pipe fittings/Taiwan | Stanley G. Flagg; Grinnell; Stockham Valves & Fittings; U-Brand; Ward Manufacturing.
A-588-605 | 731-TA-347 | Malleable cast iron pipe fittings/Japan | Stanley G. Flagg; Grinnell; Stockham Valves & Fittings; U-Brand; Ward Manufacturing.
A-549-601 | 731-TA-348 | Malleable cast iron pipe fittings/Thailand | Stanley G. Flagg; Grinnell; Stockham Valves & Fittings; U-Brand; Ward Manufacturing.
A-570-506 | 731-TA-298 | Porcelain-on-steel cooking ware/China | General Housewares.
A-201-504 | 731-TA-297 | Porcelain-on-steel cooking ware/Mexico | General Housewares.
A-583-508 | 731-TA-299 | Porcelain-on-steel cooking ware/Taiwan | General Housewares.
C-201-505 | 701-TA-265 | Porcelain-on-steel cooking ware/Mexico | General Housewares.
A-580-601 | 731-TA-304 | Top-of-the-stove stainless steel cooking ware/Korea | Farberware; Regal Ware; Revere Copper & Brass; WearEver/Proctor Silex.
C-580-602 | 701-TA-267 | Top-of-the-stove stainless steel cooking ware/Korea | Farberware; Regal Ware; Revere Copper & Brass; WearEver/Proctor Silex.
A-583-603 | 731-TA-305 | Top-of-the-stove stainless steel cooking ware/Taiwan | Farberware; Regal Ware; Revere Copper & Brass; WearEver/Proctor Silex.
C-583-604 | 701-TA-268 | Top-of-the-stove stainless steel cooking ware/Taiwan | Farberware; Regal Ware; Revere Copper & Brass; WearEver/Proctor Silex.
C-351-604 | 701-TA-269 | Brass sheet and strip/Brazil | American Brass; Bridgeport Brass; Chase Brass & Copper; Hussey Copper; The Miller Company; Olin; Revere Copper Products; Allied Industrial Workers of America; International Association of Machinists & Aerospace Workers; Mechanics Educational Society of America (Local 56); United Steelworkers of America.
A-351-603 | 731-TA-311 | Brass sheet and strip/Brazil | American Brass; Bridgeport Brass; Chase Brass & Copper; Hussey Copper; The Miller Company; Olin; Revere Copper Products; Allied Industrial Workers of America; International Association of Machinists & Aerospace Workers; Mechanics Educational Society of America (Local 56); United Steelworkers of America.
A-122-601 | 731-TA-312 | Brass sheet and strip/Canada | American Brass; Bridgeport Brass; Chase Brass & Copper; Hussey Copper; The Miller Company; Olin; Revere Copper Products; Allied Industrial Workers of America; International Association of Machinists & Aerospace Workers; Mechanics Educational Society of America (Local 56); United Steelworkers of America.
A-580-603 | 731-TA-315 | Brass sheet and strip/Korea | American Brass; Bridgeport Brass; Chase Brass & Copper; Hussey Copper; The Miller Company; Olin; Revere Copper Products; Allied Industrial Workers of America; International Association of Machinists & Aerospace Workers; Mechanics Educational Society of America (Local 56); United Steelworkers of America.
A-427-602 | 731-TA-313 | Brass sheet and strip/France | American Brass; Bridgeport Brass; Chase Brass & Copper; Hussey Copper; The Miller Company; Olin; Revere Copper Products; Allied Industrial Workers of America; International Association of Machinists & Aerospace Workers; Mechanics Educational Society of America (Local 56); United Steelworkers of America.
C-427-603 | 701-TA-270 | Brass sheet and strip/France | American Brass; Bridgeport Brass; Chase Brass & Copper; Hussey Copper; The Miller Company; Olin; Revere Copper Products; Allied Industrial Workers of America; International Association of Machinists & Aerospace Workers; Mechanics Educational Society of America (Local 56); United Steelworkers of America.
A-428-602 | 731-TA-317 | Brass sheet and strip/Germany | American Brass; Bridgeport Brass; Chase Brass & Copper; Hussey Copper; The Miller Company; Olin; Revere Copper Products; Allied Industrial Workers of America; International Association of Machinists & Aerospace Workers; Mechanics Educational Society of America (Local 56); United Steelworkers of America.
A-475-601 | 731-TA-314 | Brass sheet and strip/Italy | American Brass; Bridgeport Brass; Chase Brass & Copper; Hussey Copper; The Miller Company; Olin; Revere Copper Products; Allied Industrial Workers of America; International Association of Machinists & Aerospace Workers; Mechanics Educational Society of America (Local 56); United Steelworkers of America.
A-401-601 | 731-TA-316 | Brass sheet and strip/Sweden | American Brass; Bridgeport Brass; Chase Brass & Copper; Hussey Copper; The Miller Company; Olin; Revere Copper Products; Allied Industrial Workers of America; International Association of Machinists & Aerospace Workers; Mechanics Educational Society of America (Local 56); United Steelworkers of America.
A-588-704 | 731-TA-379 | Brass sheet and strip/Japan | American Brass; Bridgeport Brass; Chase Brass & Copper; Hussey Copper; The Miller Company; North Coast Brass & Copper; Olin; Pegg Metals; Revere Copper Products; Allied Industrial Workers of America; International Association of Machinists & Aerospace Workers; Mechanics Educational Society of America (Local 56); United Steelworkers of America.
A-421-701 | 731-TA-380 | Brass sheet and strip/Netherlands | American Brass; Bridgeport Brass; Chase Brass & Copper; Hussey Copper; The Miller Company; North Coast Brass & Copper; Olin; Pegg Metals; Revere Copper Products; Allied Industrial Workers of America; International Association of Machinists & Aerospace Workers; Mechanics Educational Society of America (Local 56); United Steelworkers of America.
A-831-801 | 731-TA-340-A | Solid urea/Armenia | Agrico Chemical; American Cyanamid; CF Industries; First Mississippi; Mississippi Chemical; Terra International; W.R. Grace.
A-822-801 | 731-TA-340-B | Solid urea/Belarus | Agrico Chemical; American Cyanamid; CF Industries; First Mississippi; Mississippi Chemical; Terra International; W.R. Grace.
A-447-801 | 731-TA-340-C | Solid urea/Estonia | Agrico Chemical; American Cyanamid; CF Industries; First Mississippi; Mississippi Chemical; Terra International; W.R. Grace.
A-451-801 | 731-TA-340-D | Solid urea/Lithuania | Agrico Chemical; American Cyanamid; CF Industries; First Mississippi; Mississippi Chemical; Terra International; W.R. Grace.
A-485-601 | 731-TA-339 | Solid urea/Romania | Agrico Chemical; American Cyanamid; CF Industries; First Mississippi; Mississippi Chemical; Terra International; W.R. Grace.
A-821-801 | 731-TA-340-E | Solid urea/Russia | Agrico Chemical; American Cyanamid; CF Industries; First Mississippi; Mississippi Chemical; Terra International; W.R. Grace.
A-842-801 | 731-TA-340-F | Solid urea/Tajikistan | Agrico Chemical; American Cyanamid; CF Industries; First Mississippi; Mississippi Chemical; Terra International; W.R. Grace.
A-843-801 | 731-TA-340-G | Solid urea/Turkmenistan | Agrico Chemical; American Cyanamid; CF Industries; First Mississippi; Mississippi Chemical; Terra International; W.R. Grace.
A-823-801 | 731-TA-340-H | Solid urea/Ukraine | Agrico Chemical; American Cyanamid; CF Industries; First Mississippi; Mississippi Chemical; Terra International; W.R. Grace.
A-844-801 | 731-TA-340-I | Solid urea/Uzbekistan | Agrico Chemical; American Cyanamid; CF Industries; First Mississippi; Mississippi Chemical; Terra International; W.R. Grace.
C-508-605 | 701-TA-286 | Industrial phosphoric acid/Israel | Albright & Wilson; FMC; Hydrite Chemical; Monsanto; Stauffer Chemical.
A-423-602 | 731-TA-365 | Industrial phosphoric acid/Belgium | Albright & Wilson; FMC; Hydrite Chemical; Monsanto; Stauffer Chemical.
A-489-602 | 731-TA-364 | Aspirin/Turkey | Dow Chemical; Monsanto; Norwich-Eaton.
A-122-605 | 731-TA-367 | Color picture tubes/Canada | Philips Electronic Components Group; Zenith Electronics Industrial Union Department, AFL-CIO; International Association of Machinists & Aerospace Workers; International Brotherhood of Electrical Workers; International Union of Electronic, Electrical, Technical, Salaried and Machine Workers; United Steelworkers of America.
A-588-609 | 731-TA-368 | Color picture tubes/Japan | Philips Electronic Components Group; Zenith Electronics; Industrial Union Department, AFL-CIO; International Association of Machinists & Aerospace Workers; International Brotherhood of Electrical Workers; International Union of Electronic, Electrical, Technical, Salaried and Machine Workers; United Steelworkers of America.
A-580-605 | 731-TA-369 | Color picture tubes/Korea | Philips Electronic Components Group; Zenith Electronics; Industrial Union Department, AFL-CIO; International Association of Machinists & Aerospace Workers; International Brotherhood of Electrical Workers; International Union of Electronic, Electrical, Technical, Salaried and Machine Workers; United Steelworkers of America.
A-559-601 | 731-TA-370 | Color picture tubes/Singapore | Philips Electronic Components Group; Zenith Electronics; Industrial Union Department, AFL-CIO; International Association of Machinists & Aerospace Workers; International Brotherhood of Electrical Workers; International Union of Electronic, Electrical, Technical, Salaried and Machine Workers; United Steelworkers of America.
A-588-054 | AA1921-143 | Tapered roller bearings 4 inches and under/Japan | No companies identified as petitioners at the Commission; Commerce service list identifies: Mitsubishi; Nissan Motor; Yamaha Motors; NSK; Hoover-NSK Bearing; ITOCHU International; Toyota Motor Sales; Timken; Nippon Seiko; Kawasaki Heavy Duty Industries; Komatsu America; Nachi Western; Ford Motor; Federal Mogul; Itocho; Kanematsu-Goshu USA; Nissan Motor USA; Nachi America; Motorambar; Honda; General Motors; Sumitomo; Koyo Seiko; American Honda Motor; Subaru of America; Suzuki Motor; Kubota Tractor; Isuzu; Nachi-Fujikoshi; NTN.
A-570-601 | 731-TA-344 | Tapered roller bearings/China | Timken; Torrington.
A-437-601 | 731-TA-341 | Tapered roller bearings/Hungary | Timken; Torrington.
A-485-602 | 731-TA-345 | Tapered roller bearings/Romania | Timken; Torrington.
A-588-604 | 731-TA-343 | Tapered roller bearings over 4 inches/Japan | Timken; Torrington.
A-427-801 | 731-TA-392-A | Ball bearings/France | MPB; Torrington.
A-427-801 | 731-TA-392-B | Cylindrical roller bearings/France | MPB; Torrington.
A-427-801 | 731-TA-392-C | Spherical plain bearings/France | Torrington.
A-428-801 | 731-TA-391-A | Ball bearings/Germany | MPB; Torrington.
A-428-801 | 731-TA-391-B | Cylindrical roller bearings/Germany | MPB; Torrington.
A-428-801 | 731-TA-391-C | Spherical plain bearings/Germany | Torrington.
A-475-801 | 731-TA-393-A | Ball bearings/Italy | MPB; Torrington.
A-475-801 | 731-TA-393-B | Cylindrical roller bearings/Italy | MPB; Torrington.
A-588-804 | 731-TA-394-A | Ball bearings/Japan | Kubar Bearings; MPB; Torrington.
A-588-804 | 731-TA-394-B | Cylindrical roller bearings/Japan | Kubar Bearings; MPB; Torrington.
A-588-804 | 731-TA-394-C | Spherical plain bearings/Japan | Kubar Bearings; Torrington.
A-485-801 | 731-TA-395 | Ball bearings/Romania | MPB; Torrington.
A-559-801 | 731-TA-396 | Ball bearings/Singapore | MPB; Torrington.
A-401-801 | 731-TA-397-A | Ball bearings/Sweden | MPB; Torrington.
A-401-801 | 731-TA-397-B | Cylindrical roller bearings/Sweden | MPB; Torrington.
A-412-801 | 731-TA-399-A | Ball Bearings/United Kingdom | MPB; Torrington.
A-412-801 | 731-TA-399-B | Cylindrical roller bearings/United Kingdom | MPB; Torrington.
A-588-703 | 731-TA-377 | Internal combustion industrial forklift trucks/Japan | Hyster; Ad-Hoc Group of Workers from Hyster's Berea, Kentucky and Sulligent, Alabama Facilities; Allied Industrial Workers of America; Independent Lift Truck Builders Union; International Association of Machinists & Aerospace Workers; United Shop & Service Employees.
A-588-706 | 731-TA-384 | Nitrile rubber/Japan | Uniroyal Chemical.
A-583-008 | 731-TA-132 | Small diameter carbon steel pipe and tube/Taiwan | Allied Tube & Conduit; American Tube; Bull Moose Tube; Copperweld Tubing J&L Steel; Kaiser Steel; Merchant Metals; Pittsburgh Tube; Southwestern Pipe; Western Tube & Conduit.
C-489-502 | 701-TA-253 | Welded carbon steel pipe and tube/Turkey | Allied Tube & Conduit; American Tube; Bernard Epps; Bock Industries; Bull Moose Tube; Central Steel Tube; Century Tube; Copperweld Tubing; Cyclops; Hughes Steel & Tube; Kaiser Steel; Laclede Steel; Maruichi American; Maverick Tube; Merchant Metals; Phoenix Steel; Pittsburgh Tube; Quanex; Sharon Tube; Southwestern Pipe; UNR-Leavitt; Welded Tube; Western Tube & Conduit; Wheatland Tube.
A-549-502 | 731-TA-252 | Welded carbon steel pipe and tube/Thailand | Allied Tube & Conduit; American Tube; Bernard Epps; Bock Industries; Bull Moose Tube; Central Steel Tube; Century Tube; Copperweld Tubing; Cyclops; Hughes Steel & Tube; Kaiser Steel; Laclede Steel; Maruichi American; Maverick Tube; Merchant Metals; Phoenix Steel; Pittsburgh Tube; Quanex; Sharon Tube; Southwestern Pipe; UNR-Leavitt; Welded Tube; Western Tube & Conduit; Wheatland Tube.
A-533-502 | 731-TA-271 | Welded carbon steel pipe and tube/India | Allied Tube & Conduit; American Tube; Bernard Epps; Bock Industries; Bull Moose Tube; Central Steel Tube; Century Tube; Copperweld Tubing; Cyclops; Hughes Steel & Tube; Kaiser Steel; Laclede Steel; Maruichi American; Maverick Tube; Merchant Metals; Phoenix Steel; Pittsburgh Tube; Quanex; Sharon Tube; Southwestern Pipe; UNR-Leavitt; Welded Tube; Western Tube & Conduit; Wheatland Tube.
A-489-501 | 731-TA-273 | Welded carbon steel pipe and tube/Turkey | Allied Tube & Conduit; American Tube; Bernard Epps; Bock Industries; Bull Moose Tube; Central Steel Tube; Century Tube; Copperweld Tubing; Cyclops; Hughes Steel & Tube; Kaiser Steel; Laclede Steel; Maruichi American; Maverick Tube; Merchant Metals; Phoenix Steel; Pittsburgh Tube; Quanex; Sharon Tube; Southwestern Pipe; UNR-Leavitt; Welded Tube; Western Tube & Conduit; Wheatland Tube.
A-122-506 | 731-TA-276 | Oil country tubular goods/Canada | CF&I Steel; Copperweld Tubing; Cyclops; KPC; Lone Star Steel; LTV Steel; Maverick Tube; Quanex; U.S. Steel.
A-583-505 | 731-TA-277 | Oil country tubular goods/Taiwan | CF&I Steel; Copperweld Tubing; Cyclops; KPC; Lone Star Steel; LTV Steel; Maverick Tube; Quanex; U.S. Steel.
A-559-502 | 731-TA-296 | Small diameter standard and rectangular pipe and tube/Singapore | Allied Tube & Conduit; American Tube; Bull Moose Tube; Cyclops; Hannibal Industries; Laclede Steel; Pittsburgh Tube; Sharon Tube; Western Tube & Conduit; Wheatland Tube.
A-583-803 | 731-TA-410 | Light-walled rectangular tube/Taiwan | Bull Moose Tube; Hannibal Industries; Harris Tube; Maruichi American; Searing Industries; Southwestern Pipe; Western Tube & Conduit.
A-357-802 | 731-TA-409 | Light-walled rectangular tube/Argentina | Bull Moose Tube; Hannibal Industries; Harris Tube; Maruichi American; Searing Industries; Southwestern Pipe; Western Tube & Conduit.
A-351-809 | 731-TA-532 | Circular welded nonalloy steel pipe/Brazil | Allied Tube & Conduit; American Tube; Bull Moose Tube; Century Tube; CSI Tubular Products; Cyclops; Laclede Steel; LTV Tubular Products; Maruichi American; Sharon Tube; Western Tube & Conduit; Wheatland Tube.
A-580-809 | 731-TA-533 | Circular welded nonalloy steel pipe/Korea | Allied Tube & Conduit; American Tube; Bull Moose Tube; Century Tube; CSI Tubular Products; Cyclops; Laclede Steel; LTV Tubular Products; Maruichi American; Sharon Tube; Western Tube & Conduit; Wheatland Tube.
A-201-805 | 731-TA-534 | Circular welded nonalloy steel pipe/Mexico | Allied Tube & Conduit; American Tube; Bull Moose Tube; Century Tube; CSI Tubular Products; Cyclops; Laclede Steel; LTV Tubular Products; Maruichi American; Sharon Tube; Western Tube & Conduit; Wheatland Tube.
A-583-814 | 731-TA-536 | Circular welded nonalloy steel pipe/Taiwan | Allied Tube & Conduit; American Tube; Bull Moose Tube; Century Tube; CSI Tubular Products; Cyclops; Laclede Steel; LTV Tubular Products; Maruichi American; Sharon Tube; Western Tube & Conduit; Wheatland Tube.
A-307-805 | 731-TA-537 | Circular welded nonalloy steel pipe/Venezuela | Allied Tube & Conduit; American Tube; Bull Moose Tube; Century Tube; CSI Tubular Products; Cyclops; Laclede Steel; LTV Tubular Products; Maruichi American; Sharon Tube; Western Tube & Conduit; Wheatland Tube.
A-588-707 | 731-TA-386 | Granular polytetrafluoroethylene/Japan | E.I. du Pont de Nemours; ICI Americas.
A-475-703 | 731-TA-385 | Granular polytetrafluoroethylene/Italy | E.I. du Pont de Nemours; ICI Americas.
A-351-602 | 731-TA-308 | Carbon steel butt-weld pipe fittings/Brazil | Ladish; Mills Iron Works; Steel Forgings; Tube Forgings of America; Weldbend.
A-583-605 | 731-TA-310 | Carbon steel butt-weld pipe fittings/Taiwan | Ladish; Mills Iron Works; Steel Forgings; Tube Forgings of America; Weldbend.
A-588-602 | 731-TA-309 | Carbon steel butt-weld pipe fittings/Japan | Ladish; Mills Iron Works; Steel Forgings; Tube Forgings of America; Weldbend.
A-570-814 | 731-TA-520 | Carbon steel butt-weld pipe fittings/China | Hackney; Ladish; Mills Iron Works; Steel Forgings; Tube Forgings of America.
A-549-807 | 731-TA-521 | Carbon steel butt-weld pipe fittings/Thailand | Hackney; Ladish; Mills Iron Works; Steel Forgings; Tube Forgings of America.
A-484-801 | 731-TA-406 | Electrolytic manganese dioxide/Greece | Chemetals; Kerr-McGee; Rayovac.
A-588-806 | 731-TA-408 | Electrolytic manganese dioxide/Japan | Chemetals; Kerr-McGee; Rayovac.
A-428-802 | 731-TA-419 | Industrial belts/Germany | The Gates Rubber Company; The Goodyear Tire and Rubber Company.
A-475-802 | 731-TA-413 | Industrial belts/Italy | The Gates Rubber Company; The Goodyear Tire and Rubber Company.
A-588-807 | 731-TA-414 | Industrial belts/Japan | The Gates Rubber Company; The Goodyear Tire and Rubber Company.
A-559-802 | 731-TA-415 | Industrial belts/Singapore | The Gates Rubber Company; The Goodyear Tire and Rubber Company.
A-427-009 | 731-TA-96 | Industrial nitrocellulose/France | Hercules.
A-351-804 | 731-TA-439 | Industrial nitrocellulose/Brazil | Hercules.
A-570-802 | 731-TA-441 | Industrial nitrocellulose/China | Hercules.
A-428-803 | 731-TA-444 | Industrial nitrocellulose/Germany | Hercules.
A-588-812 | 731-TA-440 | Industrial nitrocellulose/Japan | Hercules.
A-580-805 | 731-TA-442 | Industrial nitrocellulose/Korea | Hercules.
A-412-803 | 731-TA-443 | Industrial nitrocellulose/United Kingdom | Hercules.
A-479-801 | 731-TA-445 | Industrial nitrocellulose/Yugoslavia | Hercules.
A-122-804 | 731-TA-422 | Steel rails/Canada | Bethlehem Steel; CF&I Steel.
C-122-805 | 701-TA-297 | Steel rails/Canada | Bethlehem Steel; CF&I Steel.
A-588-811 | 731-TA-432 | Drafting machines/Japan | Vemco.
A-588-810 | 731-TA-429 | Mechanical transfer presses/Japan | Allied Products; United Autoworkers of America; United Steelworkers of America.
A-570-803 | 731-TA-457-A | Axes and adzes/China | Warwood Tool; Woodings-Verona.
A-570-803 | 731-TA-457-B | Bars and wedges/China | Warwood Tool; Woodings-Verona.
A-570-803 | 731-TA-457-C | Hammers and sledges/China | Warwood Tool; Woodings-Verona.
A-570-803 | 731-TA-457-D | Picks and mattocks/China | Warwood Tool; Woodings-Verona.
A-570-805 | 731-TA-466 | Sodium thiosulfate/China | Calabrian.
A-428-807 | 731-TA-465 | Sodium thiosulfate/Germany | Calabrian.
A-412-805 | 731-TA-468 | Sodium thiosulfate/United Kingdom | Calabrian.
C-469-004 | 701-TA-178 | Stainless steel wire rod/Spain | AL Tech Specialty Steel; Armco Steel; Carpenter Technology; Colt Industries; Cyclops; Guterl Special Steel; Joslyn Stainless Steels; Republic Steel.
A-533-808 | 731-TA-638 | Stainless steel wire rod/India | AL Tech Specialty Steel; Armco Steel; Carpenter Technology; Republic Engineered Steels; Talley Metals Technology; United Steelworkers of America.
A-351-819 | 731-TA-636 | Stainless steel wire rod/Brazil | AL Tech Specialty Steel; Armco Steel; Carpenter Technology; Republic Engineered Steels; Talley Metals Technology; United Steelworkers of America.
A-427-811 | 731-TA-637 | Stainless steel wire rod/France | AL Tech Specialty Steel; Armco Steel; Carpenter Technology; Republic Engineered Steels; Talley Metals Technology; United Steelworkers of America.
A-580-810 | 731-TA-540 | Welded ASTM A-312 stainless steel pipe/Korea | Avesta Sandvik Tube; Bristol Metals; Crucible Materials; Damascus Tubular Products; United Steelworkers of America.
A-583-815 | 731-TA-541 | Welded ASTM A-312 stainless steel pipe/Taiwan | Avesta Sandvik Tube; Bristol Metals; Crucible Materials; Damascus Tubular Products; United Steelworkers of America.
A-403-801 | 731-TA-454 | Fresh and chilled Atlantic salmon/Norway | Heritage Salmon; The Coalition for Fair Atlantic Salmon Trade.
C-403-802 | 701-TA-302 | Fresh and chilled Atlantic salmon/Norway | Heritage Salmon; The Coalition for Fair Atlantic Salmon Trade.
A-580-807 | 731-TA-459 | Polyethylene terephthalate film/Korea | E.I. du Pont de Nemours; Hoechst Celanese; ICI Americas.
A-570-804 | 731-TA-464 | Sparklers/China | B.J. Alan; Diamond Sparkler; Elkton Sparkler.
A-588-702 | 731-TA-376 | Stainless steel butt-weld pipe fittings/Japan | Flowline; Shaw Alloy Piping Products; Taylor Forge Stainless.
A-580-813 | 731-TA-563 | Stainless steel butt-weld pipe fittings/Korea | Gerlin; Markovitz Enterprises; Shaw Alloy Piping Products; Taylor Forge Stainless.
A-583-816 | 731-TA-564 | Stainless steel butt-weld pipe fittings/Taiwan | Gerlin; Markovitz Enterprises; Shaw Alloy Piping Products; Taylor Forge Stainless.
A-201-802 | 731-TA-451 | Gray portland cement and clinker/Mexico | Alamo Cement; Blue Circle; BoxCrow Cement; Calaveras Cement; Capitol Aggregates; Florida Crushed Stone; Gifford-Hill; Hanson Permanente Cement; Ideal Basic Industries; National Cement Company of Alabama; National Cement Company of California; Phoenix Cement; Southdown; Tarmac America; Texas Industries; Independent Workers of North America (Locals 49, 52, 89, 192, and 471); International Union of Operating Engineers (Local 12).
A-588-815 | 731-TA-461 | Gray portland cement and clinker/Japan | Calaveras Cement; Hanson Permanente Cement; National Cement Company of California; Southdown; Independent Workers of North America (Locals 49, 52, 89, 192, and 471); International Union of Operating Engineers (Local 12).
A-307-803 | 731-TA-519 | Gray portland cement and clinker/Venezuela | Florida Crushed Stone; Southdown; Tarmac America.
C-307-804 | 303-TA-21 | Gray portland cement and clinker/Venezuela | Florida Crushed Stone; Southdown; Tarmac America.
A-588-817 | 731-TA-469 | Electroluminescent flat-panel displays/Japan | The Cherry Corporation; Electro Plasma; Magnascreen; OIS Optical Imaging Systems; Photonics Technology; Planar Systems; Plasmaco.
A-570-808 | 731-TA-474 | Chrome-plated lug nuts/China | Consolidated International Automotive; Key Manufacturing McGard.
A-583-810 | 731-TA-475 | Chrome-plated lug nuts/Taiwan | Consolidated International Automotive; Key Manufacturing McGard.
A-122-814 | 731-TA-528 | Pure magnesium/Canada | Magnesium Corporation of America.
C-122-815 | 701-TA-309-A | Alloy magnesium/Canada | Magnesium Corporation of America.
C-122-815 | 701-TA-309-B | Pure magnesium/Canada | Magnesium Corporation of America.
A-557-805 | 731-TA-527 | Extruded rubber thread/Malaysia | Globe Manufacturing; North American Rubber Thread.
A-843-802 | 731-TA-539 | Uranium/Kazakhstan | Ferret Exploration; First Holding; Geomex Minerals; IMC Fertilizer; Malapai Resources; Pathfinder Mines; Power Resources; Rio Algom Mining; Solution Mining; Total Minerals; Umetco Minerals; Uranium Resources; Oil, Chemical and Atomic Workers.
A-821-802 | 731-TA-539-C | Uranium/Russia | Ferret Exploration; First Holding; Geomex Minerals; IMC Fertilizer; Malapai Resources; Pathfinder Mines; Power Resources; Rio Algom Mining; Solution Mining; Total Minerals; Umetco Minerals; Uranium Resources; Oil, Chemical and Atomic Workers.
A-844-802 | 731-TA-539-F | Uranium/Uzbekistan | Ferret Exploration; First Holding; Geomex Minerals; IMC Fertilizer; Malapai Resources; Pathfinder Mines; Power Resources; Rio Algom Mining; Solution Mining; Total Minerals; Umetco Minerals; Uranium Resources; Oil, Chemical and Atomic Workers.
A-823-802 | 731-TA-539-E | Uranium/Ukraine | Ferret Exploration; First Holding; Geomex Minerals; IMC Fertilizer; Malapai Resources; Pathfinder Mines; Power Resources; Rio Algom Mining; Solution Mining; Total Minerals; Umetco Minerals; Uranium Resources; Oil, Chemical and Atomic Workers.
A-583-080 | AA1921-197 | Carbon steel plate/Taiwan | No petition (self-initiated by Treasury); Commerce service list identifies: U.S. Steel; China Steel; Bethlehem Steel.
C-423-806 | 701-TA-319 | Cut-to-length carbon steel plate/Belgium | Bethlehem Steel; California Steel Industries; Geneva Steel; Gulf States Steel; Inland Steel Industries; Lukens Steel; National Steel; Nextech; Sharon Steel; Theis Precision Steel; Thompson Steel; U.S. Steel; United Steelworkers of America.
C-351-818 | 701-TA-320 | Cut-to-length carbon steel plate/Brazil | Bethlehem Steel; California Steel Industries; Geneva Steel; Gulf States Steel; Inland Steel Industries; Lukens Steel; National Steel; Nextech; Sharon Steel; Theis Precision Steel; Thompson Steel; U.S. Steel; United Steelworkers of America.
C-428-817 | 701-TA-322 | Cut-to-length carbon steel plate/Germany | Bethlehem Steel; California Steel Industries; Geneva Steel; Gulf States Steel; Inland Steel Industries; Lukens Steel; National Steel; Nextech; Sharon Steel; Theis Precision Steel; Thompson Steel; U.S. Steel; United Steelworkers of America.
C-201-810 | 701-TA-325 | Cut-to-length carbon steel plate/Mexico | Bethlehem Steel; California Steel Industries; Geneva Steel; Gulf States Steel; Inland Steel Industries; Lukens Steel; National Steel; Nextech; Sharon Steel; Theis Precision Steel; Thompson Steel; U.S. Steel; United Steelworkers of America.
C-469-804 | 701-TA-326 | Cut-to-length carbon steel plate/Spain | Bethlehem Steel; California Steel Industries; Geneva Steel; Gulf States Steel; Inland Steel Industries; Lukens Steel; National Steel; Nextech; Sharon Steel; Theis Precision Steel; Thompson Steel; U.S. Steel; United Steelworkers of America.
C-401-804 | 701-TA-327 | Cut-to-length carbon steel plate/Sweden | Bethlehem Steel; California Steel Industries; Geneva Steel; Gulf States Steel; Inland Steel Industries; Lukens Steel; National Steel; Nextech; Sharon Steel; Theis Precision Steel; Thompson Steel; U.S. Steel; United Steelworkers of America.
C-412-815 | 701-TA-328 | Cut-to-length carbon steel plate/United Kingdom | Bethlehem Steel; California Steel Industries; Geneva Steel; Gulf States Steel; Inland Steel Industries; Lukens Steel; National Steel; Nextech; Sharon Steel; Theis Precision Steel; Thompson Steel; U.S. Steel; United Steelworkers of America.
A-423-805 | 731-TA-573 | Cut-to-length carbon steel plate/Belgium | Bethlehem Steel; California Steel Industries; Geneva Steel; Gulf States Steel; Inland Steel Industries; Lukens Steel; National Steel; Nextech; Sharon Steel; Theis Precision Steel; Thompson Steel; U.S. Steel; United Steelworkers of America.
A-351-817 | 731-TA-574 | Cut-to-length carbon steel plate/Brazil | Bethlehem Steel; California Steel Industries; Geneva Steel; Gulf States Steel; Inland Steel Industries; Lukens Steel; National Steel; Nextech; Sharon Steel; Theis Precision Steel; Thompson Steel; U.S. Steel; United Steelworkers of America.
A-122-823 | 731-TA-575 | Cut-to-length carbon steel plate/Canada | Bethlehem Steel; California Steel Industries; Geneva Steel; Gulf States Steel; Inland Steel Industries; Lukens Steel; National Steel; Nextech; Sharon Steel; Theis Precision Steel; Thompson Steel; U.S. Steel; United Steelworkers of America.
A-405-802 | 731-TA-576 | Cut-to-length carbon steel plate/Finland | Bethlehem Steel; California Steel Industries; Geneva Steel; Gulf States Steel; Inland Steel Industries; Lukens Steel; National Steel; Nextech; Sharon Steel; Theis Precision Steel; Thompson Steel; U.S. Steel; United Steelworkers of America.
A-428-816 | 731-TA-578 | Cut-to-length carbon steel plate/Germany | Bethlehem Steel; California Steel Industries; Geneva Steel; Gulf States Steel; Inland Steel Industries; Lukens Steel; National Steel; Nextech; Sharon Steel; Theis Precision Steel; Thompson Steel; U.S. Steel; United Steelworkers of America.
A-201-809 | 731-TA-582 | Cut-to-length carbon steel plate/Mexico | Bethlehem Steel; California Steel Industries; Geneva Steel; Gulf States Steel; Inland Steel Industries; Lukens Steel; National Steel; Nextech; Sharon Steel; Theis Precision Steel; Thompson Steel; U.S. Steel; United Steelworkers of America.
A-455-802 | 731-TA-583 | Cut-to-length carbon steel plate/Poland | Bethlehem Steel; California Steel Industries; Geneva Steel; Gulf States Steel; Inland Steel Industries; Lukens Steel; National Steel; Nextech; Sharon Steel; Theis Precision Steel; Thompson Steel; U.S. Steel; United Steelworkers of America.
A-485-803 | 731-TA-584 | Cut-to-length carbon steel plate/Romania | Bethlehem Steel; California Steel Industries; Geneva Steel; Gulf States Steel; Inland Steel Industries; Lukens Steel; National Steel; Nextech; Sharon Steel; Theis Precision Steel; Thompson Steel; U.S. Steel; United Steelworkers of America.
A-469-803 | 731-TA-585 | Cut-to-length carbon steel plate/Spain | Bethlehem Steel; California Steel Industries; Geneva Steel; Gulf States Steel; Inland Steel Industries; Lukens Steel; National Steel; Nextech; Sharon Steel; Theis Precision Steel; Thompson Steel; U.S. Steel; United Steelworkers of America.
A-401-805 | 731-TA-586 | Cut-to-length carbon steel plate/Sweden | Bethlehem Steel; California Steel Industries; Geneva Steel; Gulf States Steel; Inland Steel Industries; Lukens Steel; National Steel; Nextech; Sharon Steel; Theis Precision Steel; Thompson Steel; U.S. Steel; United Steelworkers of America.
A-412-814 | 731-TA-587 | Cut-to-length carbon steel plate/United Kingdom | Bethlehem Steel; California Steel Industries; Geneva Steel; Gulf States Steel; Inland Steel Industries; Lukens Steel; National Steel; Nextech; Sharon Steel; Theis Precision Steel; Thompson Steel; U.S. Steel; United Steelworkers of America.
C-401-401 | 701-TA-231 | Cold-rolled carbon steel flat products/Sweden | Bethlehem Steel; Chaparral; U.S. Steel.
C-428-817 | 701-TA-340 | Cold-rolled carbon steel flat products/Germany | Armco Steel; Bethlehem Steel; California Steel Industries; Gulf States Steel; Inland Steel Industries; LTV Steel; National Steel; Nextech; Sharon Steel; Theis Precision Steel; Thompson Steel; U.S. Steel; WCI Steel; United Steelworkers of America.
C-580-818 | 701-TA-342 | Cold-rolled carbon steel flat products/Korea | Armco Steel; Bethlehem Steel; California Steel Industries; Gulf States Steel; Inland Steel Industries; LTV Steel; National Steel; Nextech; Sharon Steel; Theis Precision Steel; Thompson Steel; U.S. Steel; WCI Steel; United Steelworkers of America.
A-428-814 | 731-TA-604 | Cold-rolled carbon steel flat products/Germany | Armco Steel; Bethlehem Steel; California Steel Industries; Gulf States Steel; Inland Steel Industries; LTV Steel; National Steel; Nextech; Sharon Steel; Theis Precision Steel; Thompson Steel; U.S. Steel; WCI Steel; United Steelworkers of America.
A-580-815 | 731-TA-607 | Cold-rolled carbon steel flat products/Korea | Armco Steel; Bethlehem Steel; California Steel Industries; Gulf States Steel; Inland Steel Industries; LTV Steel; National Steel; Nextech; Sharon Steel; Theis Precision Steel; Thompson Steel; U.S. Steel; WCI Steel; United Steelworkers of America.
A-421-804 | 731-TA-608 | Cold-rolled carbon steel flat products/Netherlands | Armco Steel; Bethlehem Steel; California Steel Industries; Gulf States Steel; Inland Steel Industries; LTV Steel; National Steel; Nextech; Sharon Steel; Theis Precision Steel; Thompson Steel; U.S. Steel; WCI Steel; United Steelworkers of America.
C-427-810 | 701-TA-348 | Corrosion-resistant carbon steel flat products/France | Armco Steel; Bethlehem Steel; California Steel Industries; Geneva Steel; Gulf States Steel; Inland Steel Industries; LTV Steel; Lukens Steel; National Steel; Nextech; Sharon Steel; Theis Precision Steel; Thompson Steel; U.S. Steel; WCI Steel; United Steelworkers of America.
C-428-817 | 701-TA-349 | Corrosion-resistant carbon steel flat products/Germany | Armco Steel; Bethlehem Steel; California Steel Industries; Geneva Steel; Gulf States Steel; Inland Steel Industries; LTV Steel; Lukens Steel; National Steel; Nextech; Sharon Steel; Theis Precision Steel; Thompson Steel; U.S. Steel; WCI Steel; United Steelworkers of America.
C-580-818 | 701-TA-350 | Corrosion-resistant carbon steel flat products/Korea | Armco Steel; Bethlehem Steel; California Steel Industries; Geneva Steel; Gulf States Steel; Inland Steel Industries; LTV Steel; Lukens Steel; National Steel; Nextech; Sharon Steel; Theis Precision Steel; Thompson Steel; U.S. Steel; WCI Steel; United Steelworkers of America.
A-602-803 | 731-TA-612 | Corrosion-resistant carbon steel flat products/Australia | Armco Steel; Bethlehem Steel; California Steel Industries; Geneva Steel; Gulf States Steel; Inland Steel Industries; LTV Steel; Lukens Steel; National Steel; Nextech; Sharon Steel; Theis Precision Steel; Thompson Steel; U.S. Steel; WCI Steel; United Steelworkers of America.
A-122-822 | 731-TA-614 | Corrosion-resistant carbon steel flat products/Canada | Armco Steel; Bethlehem Steel; California Steel Industries; Geneva Steel; Gulf States Steel; Inland Steel Industries; LTV Steel; Lukens Steel; National Steel; Nextech; Sharon Steel; Theis Precision Steel; Thompson Steel; U.S. Steel; WCI Steel; United Steelworkers of America.
A-427-808 | 731-TA-615 | Corrosion-resistant carbon steel flat products/France | Armco Steel; Bethlehem Steel; California Steel Industries; Geneva Steel; Gulf States Steel; Inland Steel Industries; LTV Steel; Lukens Steel; National Steel; Nextech; Sharon Steel; Theis Precision Steel; Thompson Steel; U.S. Steel; WCI Steel; United Steelworkers of America.
A-428-815 | 731-TA-616 | Corrosion-resistant carbon steel flat products/Germany | Armco Steel; Bethlehem Steel; California Steel Industries; Geneva Steel; Gulf States Steel; Inland Steel Industries; LTV Steel; Lukens Steel; National Steel; Nextech; Sharon Steel; Theis Precision Steel; Thompson Steel; U.S. Steel; WCI Steel; United Steelworkers of America.
A-588-826 | 731-TA-617 | Corrosion-resistant carbon steel flat products/Japan | Bethlehem Steel; California Steel Industries; Geneva Steel; Gulf States Steel; Lukens Steel; Nextech; Sharon Steel; Theis Precision Steel; Thompson Steel; U.S. Steel; WCI Steel; United Steelworkers of America.
A-580-816 | 731-TA-618 | Corrosion-resistant carbon steel flat products/Korea | Armco Steel; Bethlehem Steel; California Steel Industries; Geneva Steel; Gulf States Steel; Inland Steel Industries; LTV Steel; Lukens Steel; National Steel; Nextech; Sharon Steel; Theis Precision Steel; Thompson Steel; U.S. Steel; WCI Steel; United Steelworkers of America.
A-570-815 | 731-TA-538 | Sulfanilic acid/China | R-M Industries.
A-533-806 | 731-TA-561 | Sulfanilic acid/India | R-M Industries.
C-533-807 | 701-TA-318 | Sulfanilic acid/India | R-M Industries.
A-570-806 | 731-TA-472 | Silicon metal/China | American Alloys; Elkem Metals; Globe Metallurgical; Silicon Metaltech; SiMETCO; SKW Alloys; International Union of Electronics, Electrical, Machine and Furniture Workers (Local 693); Oil, Chemical and Atomic Workers (Local 389); Textile Processors, Service Trades, Health Care Professional and Technical Employees (Local 60); United Steelworkers of America (Locals 5171, 8538, and 12646).
A-351-806 | 731-TA-471 | Silicon metal/Brazil | American Alloys; Globe Metallurgical; Silicon Metaltech; SiMETCO; International Union of Electronics, Electrical, Machine and Furniture Workers (Local 693); Oil, Chemical and Atomic Workers (Local 389); Textile Processors, Service Trades, Health Care Professional and Technical Employees (Local 60); United Steelworkers of America (Locals 5171, 8538, and 12646).
A-357-804 | 731-TA-470 | Silicon metal/Argentina | American Alloys; Elkem Metals; Globe Metallurgical; Silicon Metaltech; SiMETCO; SKW Alloys; International Union of Electronics, Electrical, Machine and Furniture Workers (Local 693); Oil, Chemical and Atomic Workers (Local 389); Textile Processors, Service Trades, Health Care Professional and Technical Employees (Local 60); United Steelworkers of America (Locals 5171, 8538, and 12646).
A-570-819 | 731-TA-567 | Ferrosilicon/China | AIMCOR; Alabama Silicon; American Alloys; Globe Metallurgical; Silicon Metaltech; Oil, Chemical and Atomic Workers (Local 389); United Autoworkers of America (Local 523); United Steelworkers of America (Locals 2528, 3081, 5171, and 12646).
A-843-804 | 731-TA-566 | Ferrosilicon/Kazakhstan | AIMCOR; Alabama Silicon; American Alloys; Globe Metallurgical; Silicon Metaltech; Oil, Chemical and Atomic Workers (Local 389); United Autoworkers of America (Local 523); United Steelworkers of America (Locals 2528, 3081, 5171, and 12646).
A-823-804 | 731-TA-569 | Ferrosilicon/Ukraine | AIMCOR; Alabama Silicon; American Alloys; Globe Metallurgical; Silicon Metaltech; Oil, Chemical and Atomic Workers (Local 389); United Autoworkers of America (Local 523); United Steelworkers of America (Locals 2528, 3081, 5171, and 12646).
C-307-808 | 303-TA-23 | Ferrosilicon/Venezuela | AIMCOR; Alabama Silicon; American Alloys; Globe Metallurgical; Silicon Metaltech; Oil, Chemical and Atomic Workers (Local 389); United Autoworkers of America (Local 523); United Steelworkers of America (Locals 2528, 3081, 5171, and 12646).
A-821-804 | 731-TA-568 | Ferrosilicon/Russia | AIMCOR; Alabama Silicon; American Alloys; Globe Metallurgical; Silicon Metaltech; Oil, Chemical and Atomic Workers (Local 389); United Autoworkers of America (Local 523); United Steelworkers of America (Locals 2528, 3081, 5171, and 12646).
A-307-807 | 731-TA-570 | Ferrosilicon/Venezuela | AIMCOR; Alabama Silicon; American Alloys; Globe Metallurgical; Silicon Metaltech; Oil, Chemical and Atomic Workers (Local 389); United Autoworkers of America (Local 523); United Steelworkers of America (Locals 2528, 3081, 5171, and 12646).
A-351-820 | 731-TA-641 | Ferrosilicon/Brazil | AIMCOR; Alabama Silicon; American Alloys; Globe Metallurgical; Silicon Metaltech; Oil, Chemical and Atomic Workers (Local 389); United Autoworkers of America (Local 523); United Steelworkers of America (Locals 2528, 3081, 5171, and 12646).
A-823-805 | 731-TA-673 | Silicomanganese/Ukraine | Elkem Metals; Oil, Chemical and Atomic Workers (Local 3-639).
A-351-824 | 731-TA-671 | Silicomanganese/Brazil | Elkem Metals; Oil, Chemical and Atomic Workers (Local 3-639).
A-570-828 | 731-TA-672 | Silicomanganese/China | Elkem Metals; Oil, Chemical and Atomic Workers (Local 3-639).
A-583-820 | 731-TA-625 | Helical spring lock washers/Taiwan | Illinois Tool Works.
A-570-822 | 731-TA-624 | Helical spring lock washers/China | Illinois Tool Works.
A-533-809 | 731-TA-639 | Forged stainless steel flanges/India | Gerlin; Ideal Forging; Maass Flange; Markovitz Enterprises.
A-583-821 | 731-TA-640 | Forged stainless steel flanges/Taiwan | Gerlin; Ideal Forging; Maass Flange; Markovitz Enterprises.
A-421-805 | 731-TA-652 | Aramid fiber/Netherlands | E.I. du Pont de Nemours.
C-475-812 | 701-TA-355 | Grain-oriented silicon electrical steel/Italy | Allegheny Ludlum; Armco Steel; Butler Armco Independent Union; United Steelworkers of America; Zanesville Armco Independent Union.
A-588-831 | 731-TA-660 | Grain-oriented silicon electrical steel/Japan | Allegheny Ludlum; Armco Steel; United Steelworkers of America.
A-475-811 | 731-TA-659 | Grain-oriented silicon electrical steel/Italy | Allegheny Ludlum; Armco Steel. Butler Armco Independent Union; United Steelworkers of America; Zanesville Armco Independent Union.
A-570-831 | 731-TA-683 | Fresh garlic/China | A&D Christopher Ranch; Belridge Packing; Colusa Produce; Denice & Filice Packing; El Camino Packing; The Garlic Company; Vessey and Company.
A-570-826 | 731-TA-663 | Paper clips/China | ACCO USA; Labelon/Noesting; TRICO Manufacturing.
A-570-827 | 731-TA-669 | Cased pencils/China | Blackfeet Indian Writing Instrument; Dixon-Ticonderoga; Empire Berol; Faber-Castell; General Pencil; J.R. Moon Pencil; Musgrave Pen & Pencil; Panda; Writing Instrument Manufacturers Association, Pencil Section.
A-570-830 | 731-TA-677 | Coumarin/China | Rhone-Poulenc.
A-351-825 | 731-TA-678 | Stainless steel bar/Brazil | AL Tech Specialty Steel; Carpenter Technology; Crucible Specialty Metals; Electralloy; Republic Engineered Steels; Slater Steels; Talley Metals Technology; United Steelworkers of America.
A-533-810 | 731-TA-679 | Stainless steel bar/India | AL Tech Specialty Steel; Carpenter Technology; Crucible Specialty Metals; Electralloy; Republic Engineered Steels; Slater Steels; Talley Metals Technology; United Steelworkers of America.
A-588-833 | 731-TA-681 | Stainless steel bar/Japan | AL Tech Specialty Steel; Carpenter Technology; Crucible Specialty Metals; Electralloy; Republic Engineered Steels; Slater Steels; Talley Metals Technology; United Steelworkers of America.
A-469-805 | 731-TA-682 | Stainless steel bar/Spain | AL Tech Specialty Steel; Carpenter Technology; Crucible Specialty Metals; Electralloy; Republic Engineered Steels; Slater Steels; Talley Metals Technology; United Steelworkers of America.
A-570-836 | 731-TA-718 | Glycine/China | Chattem; Hampshire Chemical.
A-570-832 | 731-TA-696 | Pure magnesium/China | Dow Chemical; Magnesium Corporation of America; International Union of Operating Engineers (Local 564); United Steelworkers of America (Local 8319).
A-570-835 | 731-TA-703 | Furfuryl alcohol/China | QO Chemicals.
A-549-812 | 731-TA-705 | Furfuryl alcohol/Thailand | QO Chemicals.
A-821-807 | 731-TA-702 | Ferrovanadium and nitrided vanadium/Russia | Shieldalloy Metallurgical.
A-549-813 | 731-TA-706 | Canned pineapple/Thailand | Maui Pineapple; International Longshoreman's and Warehouseman's Union.
A-357-809 | 731-TA-707 | Seamless pipe/Argentina | Koppel Steel; Quanex; Timken; United States Steel.
A-351-826 | 731-TA-708 | Seamless pipe/Brazil | Koppel Steel; Quanex; Timken; United States Steel.
A-428-820 | 731-TA-709 | Seamless pipe/Germany | Koppel Steel; Quanex; Timken; United States Steel.
A-475-814 | 731-TA-710 | Seamless pipe/Italy | Koppel Steel; Quanex; Timken; United States Steel.
C-475-815 | 701-TA-362 | Seamless pipe/Italy | Koppel Steel; Quanex; Timken; United States Steel.
C-475-817 | 701-TA-364 | Oil country tubular goods/Italy | IPSCO; Koppel Steel; Lone Star Steel; Maverick Tube; Newport Steel; North Star Steel; U.S. Steel; USS/Kobe.
A-357-810 | 731-TA-711 | Oil country tubular goods/Argentina | IPSCO; Koppel Steel; Lone Star Steel; Maverick Tube; Newport Steel; North Star Steel; U.S. Steel; USS/Kobe.
A-475-816 | 731-TA-713 | Oil country tubular goods/Italy | Bellville Tube; IPSCO; Koppel Steel; Lone Star Steel; Maverick Tube; Newport Steel; North Star Steel; U.S. Steel; USS/Kobe.
A-588-835 | 731-TA-714 | Oil country tubular goods/Japan | IPSCO; Koppel Steel; Maverick Tube; Newport Steel; North Star Steel; U.S. Steel.
A-580-825 | 731-TA-715 | Oil country tubular goods/Korea | Bellville Tube; IPSCO; Koppel Steel; Lone Star Steel; Maverick Tube; Newport Steel; North Star Steel; U.S. Steel; USS/Kobe.
A-201-817 | 731-TA-716 | Oil country tubular goods/Mexico | IPSCO; Koppel Steel; Maverick Tube; Newport Steel; North Star Steel; U.S. Steel; USS/Kobe.
A-570-840 | 731-TA-724 | Manganese metal/China | Elkem Metals; Kerr-McGee.
A-570-842 | 731-TA-726 | Polyvinyl alcohol/China | Air Products and Chemicals.
A-588-836 | 731-TA-727 | Polyvinyl alcohol/Japan | Air Products and Chemicals.
A-583-824 | 731-TA-729 | Polyvinyl alcohol/Taiwan | Air Products and Chemicals.
A-588-838 | 731-TA-739 | Clad steel plate/Japan | Lukens Steel.
C-475-819 | 701-TA-365 | Pasta/Italy | A. Zerega's Sons; American Italian Pasta; Borden; Gooch Foods; Hershey Foods; Pasta USA; Philadelphia Macaroni.
C-489-806 | 701-TA-366 | Pasta/Turkey | A. Zerega's Sons; American Italian Pasta; Borden; Gooch Foods; Hershey Foods; Pasta USA; Philadelphia Macaroni.
A-475-818 | 731-TA-734 | Pasta/Italy | A. Zerega's Sons; American Italian Pasta; Borden; Gooch Foods; Hershey Foods; Pasta USA; Philadelphia Macaroni.
A-489-805 | 731-TA-735 | Pasta/Turkey | A. Zerega's Sons; American Italian Pasta; Borden; Gooch Foods; Hershey Foods; Pasta USA; Philadelphia Macaroni.
A-428-821 | 731-TA-736 | Large newspaper printing presses/Germany | Rockwell Graphics Systems.
A-588-837 | 731-TA-737 | Large newspaper printing presses/Japan | Rockwell Graphics Systems.
A-201-820 | 731-TA-747 | Fresh tomatoes/Mexico | Accomack County Farm Bureau; Ad Hoc Group of Florida, California, Georgia, Pennsylvania, South Carolina, Tennessee, and Virginia Tomato Growers; Florida Farm Bureau Federation; Florida Fruit and Vegetable Association; Florida Tomato Exchange; Florida Tomato Growers Exchange; Gadsden County Tomato Growers Association; South Carolina Tomato Association.
A-588-839 | 731-TA-740 | Sodium azide/Japan | American Azide.
A-570-844 | 731-TA-741 | Melamine institutional dinnerware/China | Carlisle Food Service Products; Lexington United; Plastics Manufacturing.
A-560-801 | 731-TA-742 | Melamine institutional dinnerware/Indonesia | Carlisle Food Service Products; Lexington United; Plastics Manufacturing.
A-583-825 | 731-TA-743 | Melamine institutional dinnerware/Taiwan | Carlisle Food Service Products; Lexington United; Plastics Manufacturing.
A-570-846 | 731-TA-744 | Brake rotors/China | Brake Parts; Coalition for the Preservation of American Brake Drum and Rotor Aftermarket Manufacturers; Kelsey Hayes; Kinetic Parts Manufacturing; Iroquois Tool Systems; Overseas Auto Parts; Wagner Brake.
A-489-807 | 731-TA-745 | Steel; concrete reinforcing bar/Turkey | AmeriSteel; Auburn Steel; Birmingham Steel; Commercial Metals; Marion Steel; New Jersey Steel;.
A-588-840 | 731-TA-748 | Gas turbo-compressor systems/Japan | Demag Delaval; Dresser-Rand; United Steelworkers of America.
A-570-847 | 731-TA-749 | Persulfates/China | FMC.
A-570-848 | 731-TA-752 | Crawfish tail meat/China | Crawfish Processors Alliance.
A-588-841 | 731-TA-750 | Vector supercomputers/Japan | Cray Research.
A-570-849 | 731-TA-753 | Cut-to-length carbon steel plate/China | Bethlehem Steel; Geneva Steel; Gulf States Steel; National Steel; U.S. Steel; United Steelworkers of America.
A-821-808 | 731-TA-754 | Cut-to-length carbon steel plate/Russia | Bethlehem Steel; Geneva Steel; Gulf States Steel; National Steel; U.S. Steel; United Steelworkers of America.
A-791-804 | 731-TA-755 | Cut-to-length carbon steel plate/South Africa | Bethlehem Steel; Geneva Steel; Gulf States Steel; National Steel; U.S. Steel United Steelworkers of America.
A-823-808 | 731-TA-756 | Cut-to-length carbon steel plate/Ukraine | Bethlehem Steel; Geneva Steel; Gulf States Steel; National Steel; U.S. Steel United Steelworkers of America.
A-570-850 | 731-TA-757 | Collated roofing nails/China | Illinois Tool Works; International Staple and Machines; Stanley-Bostitch.
A-583-826 | 731-TA-759 | Collated roofing nails/Taiwan | Illinois Tool Works; International Staple and Machines; Stanley-Bostitch.
A-583-827 | 731-TA-762 | SRAMs/Taiwan | Micron Technology.
A-337-803 | 731-TA-768 | Fresh Atlantic salmon/Chile | Atlantic Salmon of Maine; Cooke Aquaculture US; DE Salmon; Global Aqua USA; Island Aquaculture; Maine Coast Nordic; Scan Am Fish Farms; Treats Island Fisheries; Trumpet Island Salmon Farm.
C-475-821 | 701-TA-373 | Stainless steel wire rod/Italy | AL Tech Specialty Steel; Carpenter Technology; Republic Engineered Steels; Talley Metals Technology; United Steelworkers of America.
A-475-820 | 731-TA-770 | Stainless steel wire rod/Italy | AL Tech Specialty Steel; Carpenter Technology; Republic Engineered Steels; Talley Metals Technology; United Steelworkers of America.
A-588-843 | 731-TA-771 | Stainless steel wire rod/Japan | AL Tech Specialty Steel; Carpenter Technology; Republic Engineered Steels; Talley Metals Technology; United Steelworkers of America.
A-580-829 | 731-TA-772 | Stainless steel wire rod/Korea | AL Tech Specialty Steel; Carpenter Technology; Republic Engineered Steels; Talley Metals Technology; United Steelworkers of America.
A-469-807 | 731-TA-773 | Stainless steel wire rod/Spain | AL Tech Specialty Steel; Carpenter Technology; Republic Engineered Steels; Talley Metals Technology; United Steelworkers of America.
A-401-806 | 731-TA-774 | Stainless steel wire rod/Sweden | AL Tech Specialty Steel; Carpenter Technology; Republic Engineered Steels; Talley Metals Technology; United Steelworkers of America.
A-583-828 | 731-TA-775 | Stainless steel wire rod/Taiwan | AL Tech Specialty Steel; Carpenter Technology; Republic Engineered Steels; Talley Metals Technology; United Steelworkers of America.
A-337-804 | 731-TA-776 | Preserved mushrooms/Chile | L.K. Bowman; Modern Mushroom Farms; Monterey Mushrooms; Mount Laurel Canning; Mushroom Canning; Southwood Farms; Sunny Dell Foods; United Canning.
A-570-851 | 731-TA-777 | Preserved mushrooms/China | L.K. Bowman; Modern Mushroom Farms; Monterey Mushrooms; Mount Laurel Canning; Mushroom Canning; Southwood Farms; Sunny Dell Foods; United Canning;
A-533-813 | 731-TA-778 | Preserved mushrooms/India | L.K. Bowman; Modern Mushroom Farms; Monterey Mushrooms; Mount Laurel Canning; Mushroom Canning; Southwood Farms; Sunny Dell Foods; United Canning.
A-560-802 | 731-TA-779 | Preserved mushrooms/Indonesia | L.K. Bowman; Modern Mushroom Farms; Monterey Mushrooms; Mount Laurel Canning; Mushroom Canning; Southwood Farms; Sunny Dell Foods; United Canning.
C-423-809 | 701-TA-376 | Stainless steel plate in coils/Belgium | Allegheny Ludlum; Armco Steel; Lukens Steel; United Steelworkers of America.
C-475-823 | 701-TA-377 | Stainless steel plate in coils/Italy | Allegheny Ludlum; Armco Steel; J&L Specialty Steel; Lukens Steel; United Steelworkers of America.
C-791-806 | 701-TA-379 | Stainless steel plate in coils/South Africa | Allegheny Ludlum; Armco Steel; J&L Specialty Steel; Lukens Steel; United Steelworkers of America.
A-423-808 | 731-TA-788 | Stainless steel plate in coils/Belgium | Allegheny Ludlum; Armco Steel; Lukens Steel; North American Stainless; United Steelworkers of America.
A-122-830 | 731-TA-789 | Stainless steel plate in coils/Canada | Allegheny Ludlum; Armco Steel; J&L Specialty Steel; Lukens Steel; North American Stainless.
A-475-822 | 731-TA-790 | Stainless steel plate in coils/Italy | Allegheny Ludlum; Armco Steel; J&L Specialty Steel; Lukens Steel; United Steelworkers of America.
A-580-831 | 731-TA-791 | Stainless steel plate in coils/Korea | Allegheny Ludlum; Armco Steel; J&L Specialty Steel; Lukens Steel; North American Stainless; United Steelworkers of America.
A-791-805 | 731-TA-792 | Stainless steel plate in coils/South Africa | Allegheny Ludlum; Armco Steel; J&L Specialty Steel; Lukens Steel; North American Stainless; United Steelworkers of America.
A-583-830 | 731-TA-793 | Stainless steel plate in coils/Taiwan | Allegheny Ludlum; Armco Steel; J&L Specialty Steel; Lukens Steel; North American Stainless; United Steelworkers of America.
A-560-803 | 731-TA-787 | Extruded rubber thread/Indonesia | North American Rubber Thread.
A-588-846 | 731-TA-807 | Hot-rolled carbon steel flat products/Japan | Bethlehem Steel; California Steel Industries; Gallatin Steel; Geneva Steel; Gulf States Steel; IPSCO; Ispat/Inland; LTV Steel; Nucor; Steel Dynamics; U.S. Steel; WCI; Weirton Steel; Independent Steelworkers; United Steelworkers of America.
C-351-829 | 701-TA-384 | Hot-rolled carbon steel flat products/Brazil | Bethlehem Steel; California Steel Industries; Gallatin Steel; Geneva Steel; Gulf States Steel; IPSCO; Ispat/Inland; LTV Steel; National Steel; Nucor; Steel Dynamics; U.S. Steel; WCI; Weirton Steel; Independent Steelworkers; United Steelworkers of America.
A-351-828 | 731-TA-806 | Hot-rolled carbon steel flat products/Brazil | Bethlehem Steel; California Steel Industries; Gallatin Steel; Geneva Steel; Gulf States Steel; IPSCO; Ispat/Inland; LTV Steel; National Steel; Nucor; Steel Dynamics; U.S. Steel; WCI; Weirton Steel; Independent Steelworkers; United Steelworkers of America.
A-821-809 | 731-TA-808 | Hot-rolled carbon steel flat products/Russia | Bethlehem Steel; California Steel Industries; Gallatin Steel; Geneva Steel; Gulf States Steel; IPSCO; Ispat/Inland; LTV Steel; National Steel; Nucor; Steel Dynamics; U.S. Steel; WCI; Weirton Steel; Independent Steelworkers; United Steelworkers of America.
A-427-814 | 731-TA-797 | Stainless steel sheet and strip/France | Allegheny Ludlum; Armco Steel; Bethlehem Steel; Butler Armco Independent Union; North American Stainless; United Steelworkers of America; Zanesville Armco Independent Organization.
A-428-825 | 731-TA-798 | Stainless steel sheet and strip/Germany | Allegheny Ludlum; Armco Steel; Bethlehem Steel; J&L Specialty Steel; Butler Armco Independent Union; North American Stainless; United Steelworkers of America; Zanesville Armco Independent Organization.
A-475-824 | 731-TA-799 | Stainless steel sheet and strip/Italy | Allegheny Ludlum; Armco Steel; Bethlehem Steel; J&L Specialty Steel; Butler Armco Independent Union; North American Stainless; United Steelworkers of America; Zanesville Armco Independent Organization.
A-588-845 | 731-TA-800 | Stainless steel sheet and strip/Japan | Allegheny Ludlum; Armco Steel; Bethlehem Steel; J&L Specialty Steel; Butler Armco Independent Union; North American Stainless; United Steelworkers of America; Zanesville Armco Independent Organization.
A-580-834 | 731-TA-801 | Stainless steel sheet and strip/Korea | Allegheny Ludlum; Armco Steel; Bethlehem Steel; J&L Specialty Steel; Butler Armco Independent Union; North American Stainless; United Steelworkers of America; Zanesville Armco Independent Organization.
A-201-822 | 731-TA-802 | Stainless steel sheet and strip/Mexico | Allegheny Ludlum; Armco Steel; Bethlehem Steel; J&L Specialty Steel; North American Stainless; United Steelworkers of America.
A-583-831 | 731-TA-803 | Stainless steel sheet and strip/Taiwan | Allegheny Ludlum; Armco Steel; Bethlehem Steel; J&L Specialty Steel; Butler Armco Independent Union; North American Stainless; United Steelworkers of America; Zanesville Armco Independent Organization.
A-412-818 | 731-TA-804 | Stainless steel sheet and strip/United Kingdom | Allegheny Ludlum; Armco Steel; Bethlehem Steel; J&L Specialty Steel; Butler Armco Independent Union; North American Stainless; United Steelworkers of America; Zanesville Armco Independent Organization.
C-427-815 | 701-TA-380 | Stainless steel sheet and strip/France | Allegheny Ludlum; Armco Steel; Bethlehem Steel; Butler Armco Independent Union; North American Stainless; United Steelworkers of America; Zanesville Armco Independent Organization.
C-475-825 | 701-TA-381 | Stainless steel sheet and strip/Italy | Allegheny Ludlum; Armco Steel; Bethlehem Steel; J&L Specialty Steel; Butler Armco Independent Union; North American Stainless; United Steelworkers of America; Zanesville Armco Independent Organization.
C-580-835 | 701-TA-382 | Stainless steel sheet and strip/Korea | Allegheny Ludlum; Armco Steel; Bethlehem Steel; J&L Specialty Steel; Butler Armco Independent Union; North American Stainless; United Steelworkers of America; Zanesville Armco Independent Organization.
A-570-852 | 731-TA-814 | Creatine monohydrate/China | Pfanstiehl Laboratories.
C-427-817 | 701-TA-387 | Cut-to-length carbon steel plate/France | Bethlehem Steel; Geneva Steel; IPSCO Steel; National Steel; U.S. Steel; United Steelworkers of America.
C-533-818 | 701-TA-388 | Cut-to-length carbon steel plate/India | Bethlehem Steel; Geneva Steel; Gulf States Steel; IPSCO Steel; National Steel; Tuscaloosa Steel; U.S. Steel; United Steelworkers of America.
C-560-806 | 701-TA-389 | Cut-to-length carbon steel plate/Indonesia | Bethlehem Steel; Geneva Steel; Gulf States Steel; IPSCO Steel; National Steel; Tuscaloosa Steel; U.S. Steel; United Steelworkers of America.
C-475-827 | 701-TA-390 | Cut-to-length carbon steel plate/Italy | Bethlehem Steel; Geneva Steel; Gulf States Steel; IPSCO Steel; National Steel; U.S. Steel; United Steelworkers of America.
C-580-837 | 701-TA-391 | Cut-to-length carbon steel plate/Korea | Bethlehem Steel; Geneva Steel; Gulf States Steel; IPSCO Steel; National Steel; Tuscaloosa Steel; U.S. Steel; United Steelworkers of America.
A-427-816 | 731-TA-816 | Cut-to-length carbon steel plate/France | Bethlehem Steel; Geneva Steel; IPSCO Steel; National Steel; U.S. Steel; United Steelworkers of America.
A-533-817 | 731-TA-817 | Cut-to-length carbon steel plate/India | Bethlehem Steel; Geneva Steel; Gulf States Steel; IPSCO Steel; National Steel; Tuscaloosa Steel; U.S. Steel; United Steelworkers of America.
A-560-805 | 731-TA-818 | Cut-to-length carbon steel plate/Indonesia | Bethlehem Steel; Geneva Steel; Gulf States Steel; IPSCO Steel; National Steel; Tuscaloosa Steel; U.S. Steel; United Steelworkers of America.
A-475-826 | 731-TA-819 | Cut-to-length carbon steel plate/Italy | Bethlehem Steel; Geneva Steel; Gulf States Steel; IPSCO Steel; National Steel; U.S. Steel; United Steelworkers of America.
A-588-847 | 731-TA-820 | Cut-to-length carbon steel plate/Japan | Bethlehem Steel; Geneva Steel; Gulf States Steel; IPSCO Steel; Tuscaloosa Steel; U.S. Steel; United Steelworkers of America.
A-580-836 | 731-TA-821 | Cut-to-length carbon steel plate/Korea | Bethlehem Steel; Geneva Steel; Gulf States Steel; IPSCO Steel; National Steel; Tuscaloosa Steel; U.S. Steel; United Steelworkers of America.
A-507-502 | 731-TA-287 | Raw in-shell pistachios/Iran | Blackwell Land; California Pistachio Orchard; T.M. Duche Nut; Keenan Farms; Kern Pistachio Hulling & Drying; Los Ranchos de Poco Pedro; Pistachio Producers of California.
C-507-501 | None | Raw in-shell pistachios/Iran | No case at the Commission; no service list at Commerce.
C-507-601 | None | Roasted in-shell pistachios/Iran | No case at the Commission; no service list at Commerce.
A-821-811 | 731-TA-856 | Ammonium nitrate/Russia | Agrium; Air Products and Chemicals; Mississippi Chemical; El Dorado Chemical; Nitram; LaRoche; Wil-Gro Fertilizer.
A-580-839 | 731-TA-825 | Polyester staple fiber/Korea | E.I. du Pont de Nemours; Arteva Specialties S.a.r.l.; Wellman; Intercontinental Polymers.
A-583-833 | 731-TA-826 | Polyester staple fiber/Taiwan | Arteva Specialties S.a.r.l.; Wellman; Intercontinental Polymers.
A-570-855 | 731-TA-841 | Non-frozen apple juice concentrate/China | Coloma Frozen Foods; Green Valley Apples of California; Knouse Foods Coop; Mason County Fruit Packers Coop; Tree Top.
A-588-852 | 731-TA-853 | Structural steel beams/Japan | Northwestern Steel and Wire; Nucor-Yamato Steel; TXI-Chaparral Steel; United Steelworkers of America.
C-580-842 | 701-TA-401 | Structural steel beams/Korea | Northwestern Steel and Wire; Nucor-Yamato Steel; TXI-Chaparral Steel; United Steelworkers of America.
A-580-841 | 731-TA-854 | Structural steel beams/Korea | Northwestern Steel and Wire; Nucor-Yamato Steel; TXI-Chaparral Steel; United Steelworkers of America.
A-570-856 | 731-TA-851 | Synthetic indigo/China | Buffalo Color; United Steelworkers of America.
A-588-850 | 731-TA-847 | Large-diameter carbon steel seamless pipe/Japan | North Star Steel; Timken; U.S. Steel; USS/Kobe; United Steelworkers of America.
A-588-851 | 731-TA-847 | Small-diameter carbon steel seamless pipe/Japan | Koppel Steel; North Star Steel; Sharon Tube; Timken; U.S. Steel; USS/Kobe; Vision Metals' Gulf States Tube; United Steelworkers of America.
A-791-808 | 731-TA-850 | Small-diameter carbon steel seamless pipe/South Africa | Koppel Steel; North Star Steel; Sharon Tube; Timken; U.S. Steel; USS/Kobe; Vision Metals' Gulf States Tube; United Steelworkers of America.
A-485-805 | 731-TA-849 | Small-diameter carbon steel seamless pipe/Romania | Koppel Steel; North Star Steel; Sharon Tube; Timken; U.S. Steel; USS/Kobe; Vision Metals' Gulf States Tube; United Steelworkers of America.
A-201-827 | 731-TA-848 | Large-diameter carbon steel seamless pipe/Mexico | North Star Steel; Timken; U.S. Steel; USS/Kobe; United Steelworkers of America.
A-851-802 | 731-TA-846 | Small-diameter carbon steel seamless pipe/Czech Republic | Koppel Steel; North Star Steel; Sharon Tube; Timken; U.S. Steel; USS/Kobe; Vision Metals' Gulf States Tube; United Steelworkers of America.
A-570-853 | 731-TA-828 | Aspirin/China | Rhodia.
A-580-812 | 731-TA-556 | DRAMs of 1 megabit and above/Korea | Micron Technology; NEC Electronics; Texas Instruments.
A-475-828 | 731-TA-865 | Stainless steel butt-weld pipe fittings/Italy | Markovitz Enterprises; Gerlin; Shaw Alloy Piping Products; Taylor Forge Stainless.
A-557-809 | 731-TA-866 | Stainless steel butt-weld pipe fittings/Malaysia | Markovitz Enterprises; Gerlin; Shaw Alloy Piping Products; Taylor Forge Stainless.
A-565-801 | 731-TA-867 | Stainless steel butt-weld pipe fittings/Philippines | Markovitz Enterprises; Gerlin; Shaw Alloy Piping Products; Taylor Forge Stainless.
A-588-856 | 731-TA-888 | Stainless steel angle/Japan | Slater Steels; United Steelworkers of America.
A-580-846 | 731-TA-889 | Stainless steel angle/Korea | Slater Steels; United Steelworkers of America.
A-469-810 | 731-TA-890 | Stainless steel angle/Spain | Slater Steels; United Steelworkers of America.
A-588-015 | AA1921-66 | Television receivers/Japan | AGIV (USA); Casio Computer; CBM America; Citizen Watch; Funai Electric; Hitachi; Industrial Union Department; Matsushita; Mitsubishi Electric; NEC; Orion Electric; J.C. Penny; Philips Electronics; Philips Magnavox; P.T. Imports; Sanyo; Sharp; Toshiba; Toshiba America Consumer Products; Victor Company of Japan; Montgomery Ward; Zenith Electronics.
A-822-804 | 731-TA-873 | Steel concrete reinforcing bar/ Belarus | AmeriSteel; Auburn Steel; Birmingham Steel; Border Steel; CMC Steel Group; Marion Steel; Nucor Steel; Rebar Trade Action Coalition; Riverview Steel.
A-570-860 | 731-TA-874 | Steel concrete reinforcing bar/China | AmeriSteel; Auburn Steel; Birmingham Steel; Border Steel; CMC Steel Group; Marion Steel; Nucor Steel; Rebar Trade Action Coalition; Riverview Steel.
A-560-811 | 731-TA-875 | Steel concrete reinforcing bar/Indonesia | AmeriSteel; Birmingham Steel; Border Steel; CMC Steel Group; Marion Steel; Nucor Steel; Rebar Trade Action Coalition; Riverview Steel.
A-580-844 | 731-TA-877 | Steel concrete reinforcing bar/Korea | AmeriSteel; Auburn Steel; Birmingham Steel; Border Steel; CMC Steel Group; Marion Steel; Nucor Steel; Rebar Trade Action Coalition; Riverview Steel.
A-449-804 | 731-TA-878 | Steel concrete reinforcing bar/Latvia | AmeriSteel; Auburn Steel; Birmingham Steel; Border Steel; CMC Steel Group; Marion Steel; Nucor Steel; Rebar Trade Action Coalition; Riverview Steel.
A-841-804 | 731-TA-879 | Steel concrete reinforcing bar/Moldova | AmeriSteel; Auburn Steel; Birmingham Steel; Border Steel; CMC Steel Group; Marion Steel; Nucor Steel; Rebar Trade Action Coalition; Riverview Steel.
A-455-803 | 731-TA-880 | Steel concrete reinforcing bar/Poland | AmeriSteel; Auburn Steel; Birmingham Steel; Border Steel; CMC Steel Group; Marion Steel; Nucor Steel; Rebar Trade Action Coalition; Riverview Steel.
A-823-809 | 731-TA-882 | Steel concrete reinforcing bar/Ukraine | AmeriSteel; Auburn Steel; Birmingham Steel; Border Steel; CMC Steel Group; Marion Steel; Nucor Steel; Rebar Trade Action Coalition; Riverview Steel.
A-823-810 | 731-TA-894 | Ammonium nitrate/Ukraine | Agrium Air Products and Chemicals; Committee for Fair Ammonium Nitrate Trade; El Dorado Chemical; LaRoche Industries; Mississippi Chemicals; Nitram; Prodica.
A-570-862 | 731-TA-891 | Foundry coke/China | ABC Coke; Citizens Gas and Coke Utility; Erie Coke; Tonawanda Coke; United Steelworkers of America.
C-357-815 | 701-TA-404 | Hot-rolled steel products/Argentina | Bethlehem Steel; Gallatin Steel; IPSCO; LTV Steel; National Steel; Nucor; Steel Dynamics; U.S. Steel; Weirton Steel; Independent Steelworkers; United Steelworkers of America.
A-357-814 | 731-TA-898 | Hot-rolled steel products/Argentina | Bethlehen Steel; Gallatin Steel; IPSCO; LTV Steel; National Steel; Nucor; Steel Dynamics; U.S. Steel; Weirton Steel; Independent Steelworkers; United Steelworkers of America.
A-791-809 | 731-TA-905 | Hot-rolled steel products/South Africa | Bethlehem Steel; Gallatin Steel; IPSCO; LTV Steel; National Steel; Nucor; Steel Dymanics; U.S. Steel; Weirton Steel; Independent Steelworkers; United Steelworkers of America.
A-580-008 | 731-TA-134 | Color television receivers/Korea | Independent Radionic Workers of America; International Brotherhood of Electrical Workers; International Union of Electrical, Radio and Machine Workers; Industrial Union Department, AFL-CIO; Committee to Preserve American Color television.
A-583-009 | 731-TA-135 | Color television receivers/Taiwan | Independent Radionic Workers of America; International Brotherhood of Electrical Workers; International Union of Electrical, Radio and Machine Workers; Industrial Union Department, AFL-CIO; Committee to Preserve American Color Television.
A-122-006 | AA1921-49 | Steel jacks/Canada | Bloomfield Manufacturing (Harrah); Seaburn Metal Products.
A-588-029 | AA1921-85 | Fish netting of man-made fiber/Japan | Jovanovich Supply; LFSI; Trans-Pacific Trading.
A-588-038 | AA1921-98 | Bicycle speedometers/Japan | Avocet; Cat Eye; Diversified Products; N.S. International; Sanyo Electric; Stewart-Warner.
A-588-055 | AA1921-154 | Acrylic sheet/Japan | Polycast Technology.
C-351-037 | 104-TAA-21 | Cotton Yarn/Brazil | Harriet & Henderson Yarns; LaFar Industries; American Yarn Spinners Association.
A-588-005 | 731-TA-48 | High power microwave amplifiers/Japan | Aydin; MCL.
A-122-401 | 731-TA-196 | Red raspberries/Canada | Rader farms; Ron Roberts; Shuksan Frozen Food; Northwest Food Producers' Association; Oregon Caneberry Commission; Washington Red Raspberry Commission.
A-588-405 | 731-TA-207 | Cellular mobile telephones/Japan | E.F. Johnson; Motorola.
C-421-601 | 701-TA-278 | Fresh cut flowers/Netherlands | Burdette Coward; Gold Coast Uanko Nursery; Hollandia Wholesale Florist; Manatee Fruit; Monterey Flower Farms; Topstar Nursery; California Floral Council; Floral Trade Council; Florida Flower Association.
A-301-602 | 731-TA-329 | Fresh cut flowers/Colombia | Burdette Coward; Gold Coast Uanko Nursery; Hollandia Wholesale Florist; Manatee Fruit; Monterey Flower Farms; Pajaro Valley Greenhouses; Topstar Nursery; California Floral Council; Floral Trade Council; Florida Flower Association.
A-331-602 | 731-TA-331 | Fresh cut flowers/Ecuador | Burdette Coward; Gold Coast Uanko Nursery; Hollandia Wholesale Florist; Manatee Fruit; Monterey Flower Farms; Topstar Nursery; California Floral Council; Floral Trade Council; Florida Flower Association.
A-201-601 | 731-TA-333 | Fresh cut flowers/Mexico | Burdette Coward; Gold Coast Uanko Nursery; Hollandia Wholesale Florist; Manatee Fruit; Monterey Flower Farms; Topstar Nursery; California Floral Council; Floral Trade Council; Florida Flower Association.
A-401-603 | 731-TA-354 | Stainless steel hollow products/Sweden | AL Tech Specialty steel; Allegheny Ludlum Steel; ARMCO; Carpenter Technology; Crucible Materials; Damacus Tubular Products; Specialty Tubing Group.
A-508-604 | 731-TA-366 | Industrial phosphoric acid/Israel | Albright & Wilson; FMC; Hydrite Chemical; Monsanto; Stauffer Chemical.
A-588-802 | 731-TA-389 | 3.5″ microdisks/Japan | Verbatim.
A-588-809 | 731-TA-426 | Small business telephone systems/Japan | American Telephone & Telegraph; Comdial; Eagle Telephonic.
A-583-806 | 731-TA-428 | Small business telephone systems/Taiwan | American Telephone & Telegraph; Comdial; Eagle Telephonic.
A-580-803 | 731-TA-427 | Small business telephone systems/Korea | American Telephone & Telegraph; Comdial; Eagle Telephonic.
A-570-811 | 731-TA-497 | Tungsten ore concentrates/China | Curtis Tungsten; U.S. Tungsten.
A-427-804 | 731-TA-553 | Hot-rolled lead and bismuth carbon steel products/France | Bethlehem Steel; Inland Steel Industries; USS/Kobe Steel.
C-427-805 | 701-TA-315 | Hot-rolled lead and bismuth carbon steel products/France | Bethlehem Steel; Inland Steel Industries; USS/Kobe Steel.
A-588-823 | 731-TA-571 | Professional electric cutting tools/Japan | Black & Decker.
A-821-805 | 731-TA-697 | Pure magnesium/Russia | Dow Chemical; Magnesium Corporation of America; International Union of Operating Engineers; United Steelworkers of America.
C-533-821 | 701-TA-405 | Hot-rolled steel products/India | Bethlehem Steel; Gallatin Steel; IPSCO; LTV Steel; National Steel; Nucor; Steel Dynamics; U.S. Steel; Weirton Steel; Independent Steelworkers; United Steelworkers of America.
C-560-813 | 701-TA-406 | Hot-rolled steel products/Indonesia | Bethlehem Steel; Gallatin Steel; IPSCO; LTV Steel; National Steel; Nucor; Steel Dynamics; U.S. Steel; Weirton Steel; Independent Steelworkers; United Steelworkers of America.
C-791-810 | 701-TA-407 | Hot-rolled steel products/South Africa | Bethlehem Steel; Gallatin Steel; IPSCO; LTV Steel; National Steel; Nucor; Steel Dynamics; U.S. Steel; Weirton Steel; Independent Steelworkers; United Steelworkers of America.
C-549-818 | 701-TA-408 | Hot-rolled steel products/Thailand | Bethlehem Steel; Gallatin Steel; IPSCO; LTV Steel; National Steel; Nucor; Steel Dynamics; U.S. Steel; Weirton Steel; Independent Steelworkers; United Steelworkers of America.
A-570-865 | 731-TA-899 | Hot-rolled steel products/China | Bethlehem Steel; Gallatin Steel; IPSCO; LTV Steel; National Steel; Nucor; Steel Dynamics; U.S. Steel; Weirton Steel; Independent Steelworkers; United Steelworkers of America.
A-533-820 | 731-TA-900 | Hot-rolled steel products/India | Bethlehem Steel; Gallatin Steel; IPSCO; LTV Steel; National Steel; Nucor; Steel Dynamics; U.S. Steel; Weirton Steel; Independent Steelworkers; United Steelworkers of America.
A-560-812 | 731-TA-901 | Hot-rolled steel products/Indonesia | Bethlehem Steel; Gallatin Steel; IPSCO; LTV Steel; National Steel; Nucor; Steel Dynamics; U.S. Steel; Weirton Steel; Independent Steelworkers; United Steelworkers of America.
A-834-806 | 731-TA-902 | Hot-rolled steel products/Kazakhstan | Bethlehem Steel; Gallatin Steel; IPSCO; LTV Steel; National Steel; Nucor; Steel Dymanics; U.S. Steel; Weirton Steel; Independent Steelworkers; United Steelworkers of America.
A-421-807 | 731-TA-903 | Hot-rolled steel products/Netherlands | Bethlehem Steel; Gallatin Steel; IPSCO; LTV Steel; National Steel; Nucor; Steel Dynamics; U.S. Steel; Independent Steelworkers; United Steelworkers of America.
A-485-806 | 731-TA-904 | Hot-rolled steel products/Romania | Bethlehem Steel; Gallatin Steel; IPSCO; LTV Steel; National Steel; Nucor; Steel Dynamics; U.S. Steel; Independent Steelworkers; United Steelworkers of America.
A-583-835 | 731-TA-906 | Hot-rolled steel products/Taiwan | Bethlehem Steel; Gallatin Steel; IPSCO; LTV Steel; National Steel; Nucor; Steel Dynamics; U.S. Steel; Weirton Steel; Independent Steelworkers; United Steelworkers of America.
A-549-817 | 731-TA-907 | Hot-rolled steel products/Thailand | Bethlehem Steel; Gallatin Steel; IPSCO; LTV Steel; National Steel; Nucor; Steel Dynamics; U.S. Steel; Weirton Steel; Independent Steelworkers; United Steelworkers of America.
A-823-811 | 731-TA-908 | Hot-rolled steel products/Ukraine | Bethlehem Steel; Gallatin Steel; IPSCO; LTV Steel; National Steel; Nucor; Steel Dynamics; U.S. Steel; Weirton Steel; Independent Steelworkers; United Steelworkers of America.
A-570-864 | 731-TA-895 | Pure magnesium (granular)/China; | Concerned Employees of Northwest Alloys; Magnesium Corporation of America; United Steelworkers of America; United Steelworkers of America (Local 8319).
A-588-857 | 731-TA-919 | Welded large diameter line pipe/Japan; | American Cast Iron Pipe; Berg Steel Pipe; Bethlehem Steel; Napa Pipe/Oregon Steel Mills; Saw Pipes USA; Stupp; U.S. Steel.
A-201-828 | 731-TA-920 | Welded large diameter line pipe/Mexico | American Cast Iron Pipe; Berg Steel Pipe; Bethlehem Steel; Napa Pipe/Oregon Steel Mills; Saw Pipes USA; Stupp; U.S. Steel.
C-357-813 | 701-TA-402 | Honey/Argentina | American Honey Producers Association; Sioux Honey Association.
A-357-812 | 731-TA-892 | Honey/Argentina | American Honey Producers Association; Sioux Honey Association.
A-570-863 | 731-TA-893 | Honey/China | American Honey Producers Association; Sioux Honey Association.
A-570-866 | 731-TA-921 | Folding gift boxes/China | Field Container; Harvard Folding Box; Sterling Packaging; Superior Packaging.
A-427-818 | 731-TA-909 | Low enriched uranium/France | USEC.
C-427-819 | 701-TA-409 | Low enriched uranium/France | USEC.
C-428-829 | 701-TA-410 | Low enriched uranium/Germany | USEC.
C-421-809 | 701-TA-411 | Low enriched uranium/Netherlands | USEC.
C-412-821 | 701-TA-412 | Low enriched uranium/United Kingdom | USEC.
A-427-820 | 731-TA-913 | Stainless steel bar/France | Carpenter Technology; Crucible Specialty Metals; Electralloy; Empire Specialty Steel; Republic Technologies International; Slater Steels; United Steelworkers of America.
A-428-830 | 731-TA-914 | Stainless steel bar/Germany | Carpenter Technology; Crucible Specialty Metals; Electralloy; Empire Specialty Steel; Republic Technologies International; Slater Steels; United Steelworkers of America.
A-475-829 | 731-TA-915 | Stainless steel bar/Italy | Carpenter Technology; Crucible Specialty Metals; Electralloy; Empire Specialty Steel; Republic Technologies International; Slater Steels; United Steelworkers of America.
A-580-847 | 731-TA-916 | Stainless steel bar/Korea | Carpenter Technology; Crucible Specialty Metals; Electralloy; Empire Specialty Steel; Republic Technologies International; Slater Steels; United Steelworkers of America.
A-412-822 | 731-TA-918 | Stainless steel bar/United Kingdom | Carpenter Technology; Crucible Specialty Metal Electralloy; Empire Specialty Steel; Republic Technologies International; Slater Steels; United Steelworkers of America.
C-475-830 | 701-TA-413 | Stainless steel bar/Italy | Carpenter Technology; Crucible Specialty Metals; Electralloy; Empire Specialty Steel; Republic Technologies International; Slater Steels; United Steelworkers of America.
A-570-867 | 731-TA-922 | Automotive replacement glass windshields/China | Apogee Enterprises; PPG Industries; Safelite Glass.
A-588-854 | 731-TA-860 | Tin-mill products/Japan | Weirton Steel; Independent Steelworkers; United Steelworkers of America.

Dated: June 27, 2002.
Sandra L. Bell,
Acting Assistant Commissioner, Office of Regulations and Rulings.

[FR Doc. 02-16693 Filed 6-28-02; 12:59 pm]

BILLING CODE 4820-02-P